DEPARTMENT OF COMMERCE

National Oceanic and Atmospheric Administration

50 CFR Part 679

[Docket No. 240304-0068]

RTID 0648-XD454

Fisheries of the Exclusive Economic Zone Off Alaska; Bering Sea and Aleutian Islands; Final 2024 and 2025 Harvest Specifications for Groundfish

AGENCY: National Marine Fisheries Service (NMFS), National Oceanic and Atmospheric Administration (NOAA), Commerce.

ACTION: Final rule; harvest specifications and closures.

SUMMARY: NMFS announces the final 2024 and 2025 harvest specifications, apportionments, and prohibited species catch (PSC) allowances for the groundfish fishery of the Bering Sea and Aleutian Islands management area (BSAI). This action is necessary to establish harvest limits for groundfish during the remainder of the 2024 and the start of the 2025 fishing years and to accomplish the goals and objectives of the Fishery Management Plan for Groundfish of the BSAI (FMP). The 2024 harvest specifications supersede those previously set in the final 2023 and 2024 harvest specifications, and the 2025 harvest specifications will be superseded in early 2025 when the final 2025 and 2026 harvest specifications are published. The intended effect of this action is to conserve and manage the groundfish resources in the BSAI in accordance with the Magnuson-Stevens Fishery Conservation and Management Act (Magnuson-Stevens Act).

DATES: Harvest specifications and closures are effective from 1200 hours, Alaska local time (A.l.t.), March 11, 2024, through 2400 hours, A.l.t., December 31, 2025.

ADDRESSES: Electronic copies of the Alaska Groundfish Harvest Specifications Final Environmental Impact Statement (Final EIS), Record of Decision (ROD), and the annual Supplementary Information Reports (SIR) to the Final EIS prepared for this action are available from https://www.fisheries.noaa.gov/region/alaska. The 2023 Stock Assessment and Fishery Evaluation (SAFE) report for the groundfish resources of the BSAI, dated November 2023, as well as the SAFE reports for previous years, are available from the North Pacific Fishery Management Council (Council) at 1007 West Third Ave., Suite 400, Anchorage, AK 99501, phone 907-271-2809, or from the Council's website at https://www.npfmc.org/, and the Alaska Fisheries Science Center website at https://www.fisheries.noaa.gov/alaska/population-assessments/north-pacific-groundfish-stock-assessments-and-fishery-evaluation.

FOR FURTHER INFORMATION CONTACT: Steve Whitney, 907-586-7228.

SUPPLEMENTARY INFORMATION: Federal regulations at 50 CFR part 679 implement the FMP and govern the groundfish fisheries in the BSAI. The Council prepared, and NMFS approved, the FMP pursuant to the Magnuson-Stevens Act. General regulations governing U.S. fisheries also appear at 50 CFR part 600.

The FMP and its implementing regulations require NMFS, after consultation with the Council, to specify annually the total allowable catch (TAC) for each target species category. The sum of all TACs for groundfish species in the BSAI must be within the optimum yield (OY) range of 1.4 million to 2.0 million metric tons (mt) (see §§ 679.20(a)(1)(i)(A) and 679.20(a)(2)). This final rule specifies the sum of the TAC at 2.0 million mt for 2024 and 2.0 million mt for 2025. NMFS also must specify: (1) apportionments of TAC; (2) prohibited species catch (PSC) allowances and prohibited species quota (PSQ) reserves established by § 679.21; (3) seasonal allowances of pollock, Pacific cod, and Atka mackerel TAC; (4) American Fisheries Act (AFA) allocations; (5) Amendment 80 allocations; (6) Community Development Quota (CDQ) reserve amounts established by § 679.20(b)(1)(ii); (7) acceptable biological catch (ABC) surpluses and reserves for CDQ groups and any Amendment 80 cooperatives for flathead sole, rock sole, and yellowfin sole; and (8) halibut discard mortality rates (DMR). The final harvest specifications set forth in tables 1 through 26 of this action satisfy these requirements.

Section 679.20(c)(3)(i) further requires that NMFS consider public comment on the proposed harvest specifications and, after consultation with the Council, publish final harvest specifications in the Federal Register. The proposed 2024 and 2025 harvest specifications for the groundfish fishery of the BSAI were published in the Federal Register on December 5, 2023 (88 FR 84278). Comments were invited and accepted through January 4, 2024. As discussed in the Response to Comments section below, NMFS received 5 letters raising 17 distinct comments during the public comment period for the proposed BSAI groundfish harvest specifications. NMFS's responses are addressed in the Response to Comments section below.

NMFS consulted with the Council on the final 2024 and 2025 harvest specifications during the December 2023 Council meeting. After considering public comments during public meetings and submitted for the proposed rule (88 FR 84278, December 5, 2023), as well as current biological, ecosystem, and socioeconomic data, NMFS implements in this final rule the final 2024 and 2025 harvest specifications as recommended by the Council.

ABC and TAC Harvest Specifications

The final ABC amounts for Alaska groundfish are based on the best available biological information, including projected biomass trends, information on assumed distribution of stock biomass, and revised technical methods used to calculate stock biomass. In general, the development of ABCs and overfishing levels (OFL) involves sophisticated statistical analyses of fish populations. The FMP specifies a series of six tiers to define OFL and ABC amounts based on the level of reliable information available to fishery scientists. Tier 1 represents the highest level of information quality available, while Tier 6 represents the lowest.

In December 2023, the Council, its Scientific and Statistical Committee (SSC), and its Advisory Panel (AP) reviewed current biological, ecosystem, socioeconomic, and harvest information about the condition of the BSAI groundfish stocks. The Council's BSAI Groundfish Plan Team (Plan Team) compiled and presented this information in the 2023 SAFE report for the BSAI groundfish fisheries, dated November 2023 (see ADDRESSES). The SAFE report contains a review of the latest scientific analyses and estimates of each species' biomass and other biological parameters, as well as summaries of the available information on the BSAI ecosystem and the economic condition of groundfish fisheries off Alaska. NMFS notified the public of the comment period for these harvest specifications—and of the publication of the 2023 SAFE report—in the proposed harvest specifications (88 FR 84278, December 5, 2023). From the data and analyses in the SAFE report, the Plan Team recommended an OFL and ABC for each species and species group at the November 2023 Plan Team meeting.

In December 2023, the SSC, AP, and Council reviewed the Plan Team's recommendations. The final TAC recommendations were based on the ABCs, and were adjusted for other biological and socioeconomic considerations, including the maintenance of the sum of all the TACs within the required OY range of 1.4 million to 2.0 million mt. As required by annual catch limit rules for all fisheries (74 FR 3178, January 16, 2009) and consistent with the FMP, none of the Council's recommended 2024 or 2025 TACs exceed the final 2024 or 2025 ABCs for any species or species group. NMFS finds that the Council's recommended OFLs, ABCs, and TACs are consistent with the preferred harvest strategy outlined in the FMP, as well as the Final EIS and ROD, and the biological condition of groundfish stocks as described in the 2023 SAFE report that was approved by the Council, while accounting for ecosystem and socioeconomic information presented in the 2023 SAFE report (which includes the Ecosystem Status Reports (ESR)). Therefore, this final rule provides notification that the Secretary of Commerce approves the final 2024 and 2025 harvest specifications as recommended by the Council.

The 2024 harvest specifications set in this final action supersede the 2024 harvest specifications previously set in the final 2023 and 2024 harvest specifications (88 FR 14926, March 10, 2023). The 2024 harvest specifications herein will be superseded in early 2025 when the final 2025 and 2026 harvest specifications are published. Pursuant to this final action, the 2024 harvest specifications will apply for the remainder of the current year (2024) while the 2025 harvest specifications are projected only for the following year (2025) and will be superseded in early 2025 by the final 2025 and 2026 harvest specifications. Because this final action (published in early 2024) will be superseded in early 2025 by the publication of the final 2025 and 2026 harvest specifications, it is projected that this final action will implement the harvest specifications for the BSAI for approximately 1 year.

Other Actions Affecting the 2024 and 2025 Harvest Specifications

State of Alaska Guideline Harvest Levels

For 2024 and 2025, the Board of Fisheries (BOF) for the State of Alaska (State) established the guideline harvest level (GHL) for vessels using pot, longline, jig, and hand troll gear in State waters in the State's Aleutian Islands (AI) State waters sablefish registration area that includes all State waters west of Scotch Cap Light (164° 44.72′ W longitude) and south of Cape Sarichef (54° 36′ N latitude). The 2024 AI GHL is set at 5 percent (1,228 mt) of the combined 2024 Bering Sea subarea (BS) and AI subarea ABC (mt). The 2025 AI GHL is set at 5 percent (1,233 mt) of the combined 2025 BS subarea and AI subarea ABC (mt). The State's AI sablefish registration area includes areas adjacent to parts of the Federal BS subarea. The Council and its Plan Team, SSC, and AP recommended that the sum of all State and Federal waters sablefish removals from the BS and AI not exceed the ABC recommendations for sablefish in the BS and AI. Accordingly, after reviewing the Council recommendations, NMFS approves that the 2024 and 2025 sablefish TACs in the BS and AI account for the State's GHLs for sablefish caught in State waters.

For 2024 and 2025, the BOF for the State established the GHL for vessels using pot gear in State waters in the BS equal to 12 percent of the Pacific cod ABC in the BS. Under the State's management plan, the BS GHL will increase by 1 percent if 90 percent of the GHL is harvested by November 15 of the preceding year for two consecutive years but may not exceed 15 percent of the BS ABC. If 90 percent of the GHL is not harvested by November 15 of the preceding year for two consecutive years, the GHL will decrease by 1 percent, but the GHL may not decrease below 10 percent of the BS ABC. For 2024, the BS Pacific cod ABC is 167,952 mt, and for 2025, it is 150,876 mt. Therefore, based on the preceding years' harvests, the GHL in the BS for pot gear will be 12 percent for 2024 (20,154 mt) and is projected to be 12 percent for 2025 (18,105 mt). Also, for 2024 and 2025, the BOF established an additional GHL for vessels using jig gear in State waters in the BS equal to 45 mt of Pacific cod in the BS. The Council and its Plan Team, SSC, and AP recommended that the sum of all State and Federal waters Pacific cod removals from the BS not exceed the ABC recommendations for Pacific cod in the BS. Accordingly, after reviewing the Council recommendations, NMFS approves that the 2024 and 2025 Pacific cod TACs in the BS account for the State's GHLs for Pacific cod caught in State waters in the BS.

For 2024 and 2025, the BOF for the State established the GHL for Pacific cod in State waters in the AI equal to 35 percent of the AI ABC. Under the State's management plan, the AI GHL will increase annually by 4 percent of the AI ABC if 90 percent of the GHL is harvested by November 15 of the preceding year, but may not exceed 39 percent of the AI ABC or 15 million pounds (6,804 mt). If 90 percent of the GHL is not harvested by November 15 of the preceding year for two consecutive years, the GHL will decrease by 4 percent, but the GHL may not decrease below 15 percent of the AI ABC. For 2024 and for 2025, 35 percent of the AI ABC is 4,351 mt. The Council and its Plan Team, SSC, and AP recommended that the sum of all State and Federal waters Pacific cod removals from the AI not exceed the ABC recommendations for Pacific cod in the AI. Accordingly, after reviewing the Council's recommendations, NMFS approves that the 2024 and 2025 Pacific cod TACs in the AI account for the State's GHL for Pacific cod caught in State waters in the AI.

Halibut Abundance Based Management for the Amendment 80 Program PSC Limit

On November 24, 2023, NMFS published a final rule to implement Amendment 123 to the FMP (88 FR 82740), which establishes abundance-based management of the Amendment 80 Program PSC limit for Pacific halibut. The final action replaces the current Amendment 80 sector static halibut PSC limit (1,745 mt) with a process for annually setting the Amendment 80 sector halibut PSC limit based on the most recent halibut abundance estimates from the International Pacific Halibut Commission (IPHC) setline survey index and the NMFS Alaska Fisheries Science Center Eastern Bering Sea shelf trawl survey index. The annual process will use a table with pre-established halibut abundance ranges based on those surveys (Table 58 to 50 CFR part 679). The annual Amendment 80 sector halibut PSC limit will be set at the value found at the intercept of the results from the most recent survey indices. The final 2024 and 2025 harvest specifications announce the Amendment 80 halibut PSC limit based on the implementation of Amendment 123 and regulations effective January 1, 2024.

Pacific Cod Trawl Cooperative Limited Access Privilege Program

On August 8, 2023, NMFS published a final rule to implement Amendment 122 to the FMP (88 FR 53704, effective September 7, 2023) (see also correction 88 FR 57009, August 22, 2023). The final rule establishes a limited access privilege program called the Pacific Cod Trawl Cooperative (PCTC) Program. The PCTC Program allocates Pacific cod quota share (QS) to groundfish License Limitation Program license holders and to processors based on history during the qualifying years. Under this program, QS holders are required to join cooperatives annually. Cooperatives are allocated the BSAI trawl catcher vessel sector's A and B seasons Pacific cod allocation as an exclusive harvest privilege in the form of cooperative quota (CQ), equivalent to the aggregate QS of all cooperative members. Amendment 122 also reduces the halibut and crab PSC limits for the BSAI trawl catcher vessel (CV) Pacific cod fishery, changes the AFA CV sideboard limit for Pacific cod to apply in the C season only, and removes the halibut PSC sideboard limit for AFA trawl CVs. Accordingly, Amendment 122 and its implementing regulations affect the calculation of the BSAI trawl CV sector allocation of Pacific cod (discussed in a subsequent section of this rule titled “Allocation of the Pacific Cod TAC”) and the BSAI trawl limited access sector crab and halibut PSC limits (discussed in two subsequent sections of this rule titled “PSC Limits for Halibut, Salmon, Crab, and Herring” and “AFA Catcher Vessel Sideboard Limits”). Amendment 122 also removed the regulations at § 679.20(a)(7)(viii) for Amendment 113 to the FMP because the U.S. District Court for the District of Columbia vacated the rule implementing Amendment 113 (see Groundfish Forum v. Ross, 375 F.Supp.3d 72 (D.D.C. 2019)).

Changes From the Proposed 2024 and 2025 Harvest Specifications for the BSAI

In October 2023, the Council's recommendations for the proposed 2024 and 2025 harvest specifications (88 FR 84278, December 5, 2023) were based largely on information contained in the 2022 SAFE report for the BSAI groundfish fisheries, dated November 2022. Stocks are managed in tiers based on the amount and quality of information available. There is more information available about stocks in tiers 1 through 3 than is available for those in tiers 4 through 6. In October 2023, the Council recommended that proposed 2024 and 2025 OFLs and ABCs be based on rollovers of the 2024 amounts. In making this recommendation, the Council used the best information available from the 2022 stock assessments until the 2023 SAFE report could be completed.

In December 2023, the Council's recommendations for the final 2024 and 2025 harvest specifications were based largely on information contained in the 2023 SAFE report for the BSAI groundfish fisheries, dated November 2023. The SAFE report contains a review of the latest scientific analyses and estimates of each species' biomass and other biological parameters, as well as summaries of the available information on the BSAI ecosystem by including risk tables and information from the BS ESR and AI ESR.

The ESRs compile and summarize information about the status of the Alaska marine ecosystems for the Plan Team, SSC, AP, Council, NMFS, and the public. These ESRs are updated annually and include ecosystem report cards, ecosystem assessments, and ecosystem status indicators (i.e., climate indices, sea surface temperature), which together provide context for ecosystem-based fisheries management in Alaska. The ESRs inform stock assessments and are integrated in the annual harvest recommendations through inclusion in stock assessment-specific risk tables. The ESRs provide context for the SSC's recommendations for OFLs and ABCs, as well as for the Council's TAC recommendations. The SAFE reports and the ESRs are presented to the Plan Team and at the October and December Council meetings before the SSC, AP, and Council make groundfish harvest recommendations and aid NMFS in implementing these annual groundfish harvest specifications.

The SAFE report also includes information on the economic condition of the groundfish fisheries off Alaska through the Economic Status Report. The SAFE report provides information to the Council and NMFS for recommending and setting, respectively, annual harvest levels for each stock, documenting significant trends or changes in the resource, marine ecosystems, and fisheries over time, and assessing the relative success of existing Federal fishery management programs. From these data and analyses, the Plan Team recommends, and the SSC sets, an OFL and ABC for each species and species group.

The Council recommended a final 2024 BS pollock TAC that is a decrease of 2,000 mt from the proposed 2024 BS pollock TAC and is also the same as the 2023 BS pollock TAC. The Council recommended a final 2025 BS pollock TAC that is an increase of 23,000 mt from the proposed 2025 BS pollock TAC to reflect the increase in the 2025 BS pollock ABC. The Council also recommended to increase the BS Pacific cod TAC by 24,458 mt in 2024 and 9,431 mt in 2025 from the proposed TAC. In terms of tonnage, the Council reduced the TACs from the proposed TACs of several species of lower economic value to maintain an overall total TAC within the required OY range of 1.4 to 2.0 million mt with the yellowfin sole TAC accounting for most of the decrease in terms of tonnage. Some species, such as Atka mackerel and northern rockfish, are economically valuable species whose ABCs increased in 2024, which allowed the 2024 TACs to increase as well. Others, such as Alaska plaice and sharks, have increased TACs due to anticipated increased incidental catches in other fisheries. Of these species, sharks had the largest increase in terms of percentage. This is due to an increase in anticipated incidental catch in the pollock fishery. The changes to TACs between the proposed and final harvest specifications are based on the most recent scientific, biological, and socioeconomic information and are consistent with the FMP, regulatory obligations, and harvest strategy as described in the proposed and final harvest specifications, including the required OY range of 1.4 million to 2.0 million mt. These changes are compared in table 1A.

Table 1 lists the Council's recommended final 2024 OFL, ABC, TAC, initial TAC (ITAC), CDQ reserve allocations, and non-specified reserves of the BSAI groundfish species and species groups; and table 2 lists the Council's recommended final 2025 OFL, ABC, TAC, ITAC, CDQ reserve allocations, and non-specified reserves of the BSAI groundfish species and species groups. NMFS concurs with these recommendations. These final 2024 and 2025 TAC amounts for the BSAI are within the OY range established for the BSAI and do not exceed the ABC for any species or species group. The apportionment of TAC amounts among fisheries and seasons is discussed below.

Table 1—Final 2024 OFL, ABC, TAC, Initial TAC (ITAC), CDQ Reserve Allocation, and Nonspecified Reserves of Groundfish in the BSAI ¹
[Amounts are in metric tons]
Species | Area | 2024: OFL | 2024: ABC | 2024: TAC | 2024: ITAC ² | 2024: CDQ ³ | 2024: Nonspecified reserves
Pollock ⁴ | BS | 3,162,000 | 2,313,000 | 1,300,000 | 1,170,000 | 130,000 |
| AI | 51,516 | 42,654 | 19,000 | 17,100 | 1,900 |
| Bogoslof | 115,146 | 86,360 | 250 | 250 |  |
Pacific cod ⁵ | BS | 200,995 | 167,952 | 147,753 | 131,943 | 15,810 |
| AI | 18,416 | 12,431 | 8,080 | 7,215 | 865 |
Sablefish ⁶ | Alaska-wide | 55,084 | 47,146 | n/a | n/a | n/a |
| BS | n/a | 11,450 | 7,996 | 6,597 | 1,099 | 300
| AI | n/a | 13,100 | 8,440 | 6,858 | 1,424 | 158
Yellowfin sole | BSAI | 305,298 | 265,913 | 195,000 | 174,135 | 20,865 |
Greenland turbot | BSAI | 3,705 | 3,188 | 3,188 | 2,710 | n/a |
| BS | n/a | 2,687 | 2,687 | 2,284 | 288 | 116
| AI | n/a | 501 | 501 | 426 |  | 75
Arrowtooth flounder | BSAI | 103,280 | 87,690 | 14,000 | 11,900 | 1,498 | 602
Kamchatka flounder | BSAI | 8,850 | 7,498 | 7,498 | 6,373 |  | 1,125
Rock sole ⁷ | BSAI | 197,828 | 122,091 | 66,000 | 58,938 | 7,062 |
Flathead sole ⁸ | BSAI | 81,605 | 67,289 | 35,500 | 31,702 | 3,799 |
Alaska plaice | BSAI | 42,695 | 35,494 | 21,752 | 18,489 |  | 3,263
Other flatfish ⁹ | BSAI | 22,919 | 17,189 | 4,500 | 3,825 |  | 675
Pacific ocean perch | BSAI | 49,010 | 41,096 | 37,626 | 33,100 | n/a |
| BS | n/a | 11,636 | 11,636 | 9,891 |  | 1,745
| EAI | n/a | 7,969 | 7,969 | 7,116 | 853 |
| CAI | n/a | 5,521 | 5,521 | 4,930 | 591 |
| WAI | n/a | 15,970 | 12,500 | 11,163 | 1,338 |
Northern rockfish | BSAI | 23,556 | 19,274 | 16,752 | 14,239 |  | 2,513
Blackspotted/Rougheye rockfish ¹⁰ | BSAI | 761 | 569 | 569 | 484 |  | 85
| BS/EAI | n/a | 388 | 388 | 330 |  | 58
| CAI/WAI | n/a | 181 | 181 | 154 |  | 27
Shortraker rockfish | BSAI | 706 | 530 | 530 | 451 |  | 80
Other rockfish ¹¹ | BSAI | 1,680 | 1,260 | 1,260 | 1,071 |  | 189
| BS | n/a | 880 | 880 | 748 |  | 132
| AI | n/a | 380 | 380 | 323 |  | 57
Atka mackerel | BSAI | 111,684 | 95,358 | 72,987 | 65,177 | 7,810 |
| BS/EAI | n/a | 41,723 | 32,260 | 28,808 | 3,452 |
| CAI | n/a | 16,754 | 16,754 | 14,961 | 1,793 |
| WAI | n/a | 36,882 | 23,973 | 21,408 | 2,565 |
Skates | BSAI | 45,574 | 37,808 | 30,519 | 25,941 |  | 4,578
Sharks | BSAI | 689 | 450 | 400 | 340 |  | 60
Octopuses | BSAI | 6,080 | 4,560 | 400 | 340 |  | 60
Total |  | 4,609,077 | 3,476,800 | 2,000,000 | 1,789,177 | 195,199 | 15,623
Note: Regulatory areas and districts are defined at § 679.2.
¹ These amounts apply to the entire BSAI management area unless otherwise specified. With the exception of pollock, and for the purpose of these harvest specifications, the BS includes the Bogoslof District.
² Except for pollock, the portion of the sablefish TAC allocated to fixed gear, and Amendment 80 species (Atka mackerel, yellowfin sole, rock sole, flathead sole, Pacific cod, and AI Pacific ocean perch), 15 percent of each TAC is placed into a non-specified reserve (§ 679.20(b)(1)(i)). The ITAC for these species is the remainder of the TAC after the subtraction of these reserves. For pollock and Amendment 80 species, ITAC is the non-CDQ allocation of TAC (see footnotes 3 and 4).
³ For the Amendment 80 species (Atka mackerel, yellowfin sole, rock sole, flathead sole, Pacific cod, and AI Pacific ocean perch), 10.7 percent of the TAC is reserved for use by CDQ participants (see § 679.20(b)(1)(ii)(C)). Twenty percent of the sablefish TAC allocated to fixed gear, 7.5 percent of the sablefish TAC allocated to trawl gear, and 10.7 percent of the TACs for BS Greenland turbot and arrowtooth flounder are reserved for use by CDQ participants (see § 679.20(b)(1)(ii)(B) and (D)). AI Greenland turbot, “other flatfish,” Alaska plaice, Bering Sea Pacific ocean perch, Kamchatka flounder, northern rockfish, blackspotted/rougheye rockfish, shortraker rockfish, “other rockfish,” skates, sharks, and octopuses are not allocated to the CDQ Program.
⁴ Under § 679.20(a)(5)(i)(A), the annual BS pollock TAC, after subtracting first for the CDQ directed fishing allowance (10 percent) and second for the incidental catch allowance (50,000 mt), is further allocated by sector for a pollock directed fishery as follows: inshore—50 percent; catcher/processor—40 percent; and mothership—10 percent. Section 679.20(a)(5)(iii)(B)(1) requires the AI pollock TAC to be set at 19,000 mt when the AI pollock ABC equals or exceeds 19,000 mt. Under § 679.20(a)(5)(iii)(B)(2), the annual AI pollock TAC, after subtracting first for the CDQ directed fishing allowance (10 percent) and second for the incidental catch allowance (3,420 mt), is allocated to the Aleut Corporation for a pollock directed fishery. The Bogoslof pollock TAC is set to accommodate incidental catch amounts.
⁵ The BS Pacific cod TAC is set to account for the 12 percent, plus 45 mt, of the BS ABC for the State's guideline harvest level in State waters of the BS. The AI Pacific cod TAC is set to account for 35 percent of the AI ABC for the State guideline harvest level in State waters of the AI.
⁶ The sablefish OFL and ABC is Alaska-wide and include the Gulf of Alaska. The Alaska-wide sablefish OFL and ABC are included in the total OFL and ABC. The BS and AI sablefish TACs are set to account for the 5 percent of the BS and AI ABC for the State's guideline harvest level in State waters of the BS and AI.
⁷ “Rock sole” includes Lepidopsetta polyxystra (Northern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for dark rockfish, Pacific ocean perch, northern rockfish, blackspotted/rougheye rockfish, and shortraker rockfish.

Table 1a—Comparison of Final 2024 and 2025 With Proposed 2024 and 2025 Total Allowable Catch in the BSAI
[Amounts are in metric tons]
Species | Area ¹ | 2024 final TAC | 2024 and 2025 proposed TAC | 2024 difference from proposed | 2024 percentage difference from proposed | 2025 final TAC | 2025 difference from proposed | 2025 percentage difference from proposed
Pollock | BS | 1,300,000 | 1,302,000 | (2,000) | (0.2) | 1,325,000 | 23,000 | 1.8
| AI | 19,000 | 19,000 |  |  | 19,000 |  |
| Bogoslof | 250 | 300 | (50) | (16.7) | 250 | (50) | (16.7)
Pacific cod | BS | 147,753 | 123,295 | 24,458 | 19.8 | 132,726 | 9,431 | 7.6
| AI | 8,080 | 8,425 | (345) | (4.1) | 8,080 | (345) | (4.1)
Sablefish | BS | 7,996 | 9,676 | (1,680) | (17.4) | 9,500 | (176) | (1.8)
| AI | 8,440 | 9,793 | (1,353) | (13.8) | 8,440 | (1,353) | (13.8)
Yellowfin sole | BSAI | 195,000 | 230,656 | (35,656) | (15.5) | 195,000 | (35,656) | (15.5)
Greenland turbot | BS | 2,687 | 2,836 | (149) | (5.3) | 2,310 | (526) | (18.5)
| AI | 501 | 528 | (27) | (5.1) | 430 | (98) | (18.6)
Arrowtooth flounder | BSAI | 14,000 | 15,000 | (1,000) | (6.7) | 14,000 | (1,000) | (6.7)
Kamchatka flounder | BSAI | 7,498 | 7,435 | 63 | 0.8 | 7,360 | (75) | (1.0)
Rock sole | BSAI | 66,000 | 66,000 |  |  | 66,000 |  |
Flathead sole | BSAI | 35,500 | 35,500 |  |  | 35,500 |  |
Alaska plaice | BSAI | 21,752 | 18,000 | 3,752 | 20.8 | 20,000 | 2,000 | 11.1
Other flatfish | BSAI | 4,500 | 4,500 |  |  | 4,500 |  |
Pacific ocean perch | BS | 11,636 | 11,700 | (64) | (0.5) | 11,430 | (270) | (2.3)
| EAI | 7,969 | 8,013 | (44) | (0.5) | 7,828 | (185) | (2.3)
| CAI | 5,521 | 5,551 | (30) | (0.5) | 5,423 | (128) | (2.3)
| WAI | 12,500 | 13,000 | (500) | (3.8) | 12,500 | (500) | (3.8)
Northern rockfish | BSAI | 16,752 | 11,000 | 5,752 | 52.3 | 15,000 | 4,000 | 36.4
Blackspotted and Rougheye rockfish | BS/EAI | 388 | 388 |  |  | 412 | 24 | 6.2
| CAI/WAI | 181 | 182 | (1) | (0.5) | 195 | 13 | 7.1
Shortraker rockfish | BSAI | 530 | 530 |  |  | 530 |  |
Other rockfish | BS | 880 | 880 |  |  | 880 |  |
| AI | 380 | 380 |  |  | 380 |  |
Atka mackerel | EAI/BS | 32,260 | 30,000 | 2,260 | 7.5 | 30,000 |  |
| CAI | 16,754 | 15,218 | 1,536 | 10.1 | 14,877 | (341) | (2.2)
| WAI | 23,973 | 21,637 | 2,336 | 10.8 | 21,288 | (349) | (1.6)
Skates | BSAI | 30,519 | 27,927 | 2,592 | 9.3 | 30,361 | 2,434 | 8.7
Sharks | BSAI | 400 | 250 | 150 | 60.0 | 400 | 150 | 60.0
Octopuses | BSAI | 400 | 400 |  |  | 400 |  |
Total | BSAI | 2,000,000 | 2,000,000 |  |  | 2,000,000 |  |

Table 2—Final 2025 OFL, ABC, TAC, ITAC, CDQ Reserve Allocation, and Nonspecified Reserves of Groundfish in the BSAI ¹
[Amounts are in metric tons]
Species | Area | 2025: OFL | 2025: ABC | 2025: TAC | 2025: ITAC ² | 2025: CDQ ³ | 2025: Nonspecified reserves
Pollock ⁴ | BS | 3,449,000 | 2,401,000 | 1,325,000 | 1,192,500 | 132,500 |
| AI | 53,030 | 43,863 | 19,000 | 17,100 | 1,900 |
| Bogoslof | 115,146 | 86,360 | 250 | 250 |  |
Pacific cod ⁵ | BS | 180,798 | 150,876 | 132,726 | 118,524 | 14,202 |
| AI | 18,416 | 12,431 | 8,080 | 7,215 | 865 |
Sablefish ⁶ | Alaska-wide | 55,317 | 47,350 | n/a | n/a | n/a |
| BS | n/a | 11,499 | 9,500 | 4,038 | 356 | 356
| AI | n/a | 13,156 | 8,440 | 1,794 | 158 | 158
Yellowfin sole | BSAI | 317,932 | 276,917 | 195,000 | 174,135 | 20,865 |
Greenland turbot | BSAI | 3,185 | 2,740 | 2,740 | 2,329 | n/a |
| BS | n/a | 2,310 | 2,310 | 1,964 | 247 | 99
| AI | n/a | 430 | 430 | 366 |  | 65
Arrowtooth flounder | BSAI | 104,270 | 88,548 | 14,000 | 11,900 | 1,498 | 602
Kamchatka flounder | BSAI | 8,687 | 7,360 | 7,360 | 6,256 |  | 1,104
Rock sole ⁷ | BSAI | 264,789 | 122,535 | 66,000 | 58,938 | 7,062 |
Flathead sole ⁸ | BSAI | 82,699 | 68,203 | 35,500 | 31,702 | 3,799 |
Alaska plaice | BSAI | 45,182 | 37,560 | 20,000 | 17,000 |  | 3,000
Other flatfish ⁹ | BSAI | 22,919 | 17,189 | 4,500 | 3,825 |  | 675
Pacific ocean perch | BSAI | 48,139 | 40,366 | 37,181 | 32,711 | n/a |
| BS | n/a | 11,430 | 11,430 | 9,716 |  | 1,715
| EAI | n/a | 7,828 | 7,828 | 6,990 | 838 |
| CAI | n/a | 5,423 | 5,423 | 4,843 | 580 |
| WAI | n/a | 15,685 | 12,500 | 11,163 | 1,338 |
Northern rockfish | BSAI | 22,838 | 18,685 | 15,000 | 12,750 |  | 2,250
Blackspotted/Rougheye rockfish ¹⁰ | BSAI | 813 | 607 | 607 | 516 |  | 91
| BS/EAI | n/a | 412 | 412 | 350 |  | 62
| CAI/WAI | n/a | 195 | 195 | 166 |  | 29
Shortraker rockfish | BSAI | 706 | 530 | 530 | 451 |  | 80
Other rockfish ¹¹ | BSAI | 1,680 | 1,260 | 1,260 | 1,071 |  | 189
| BS | n/a | 880 | 880 | 748 |  | 132
| AI | n/a | 380 | 380 | 323 |  | 57
Atka mackerel | BSAI | 99,723 | 84,676 | 66,165 | 59,085 | 7,080 |
| EAI/BS | n/a | 37,049 | 30,000 | 26,790 | 3,210 |
| CAI | n/a | 14,877 | 14,877 | 13,285 | 1,592 |
| WAI | n/a | 32,750 | 21,288 | 19,010 | 2,278 |
Skates | BSAI | 44,203 | 36,625 | 30,361 | 25,807 |  | 4,554
Sharks | BSAI | 689 | 450 | 400 | 340 |  | 60
Octopuses | BSAI | 6,080 | 4,560 | 400 | 340 |  | 60
Total |  | 4,946,241 | 3,550,691 | 2,000,000 | 1,780,576 | 193,286 | 15,058
Note: Regulatory areas and districts are defined at § 679.2.
¹ These amounts apply to the entire BSAI management area unless otherwise specified. With the exception of pollock, and for the purpose of these harvest specifications, the BS includes the Bogoslof District.
² Except for pollock, the portion of the sablefish TAC allocated to fixed gear, and Amendment 80 species (Atka mackerel, flathead sole, rock sole, yellowfin sole, Pacific cod, and Aleutian Islands Pacific ocean perch), 15 percent of each TAC is put into a non-specified reserve (§ 679.20(b)(1)(i)). The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see § 679.20(b)(1)(ii)(C)). Twenty percent of the sablefish TAC allocated to fixed gear, 7.5 percent of the sablefish TAC allocated to trawl gear, and 10.7 percent of the TACs for Bering Sea Greenland turbot and arrowtooth flounder are reserved for use by CDQ participants (see § 679.20(b)(1)(ii)(B) and (D)). The 2025 fixed gear portion of the sablefish ITAC and CDQ reserve will not be specified until the final 2025 and 2026 harvest specifications. Aleutian Islands Greenland turbot, “other flatfish,” Alaska plaice, Bering Sea Pacific ocean perch, Kamchatka flounder, northern rockfish, shortraker rockfish, blackspotted/rougheye rockfish, “other rockfish,” skates, sharks, and octopuses are not allocated to the CDQ program.
⁴ Under § 679.20(a)(5)(i)(A), the annual BS pollock TAC, after subtracting first for the CDQ directed fishing allowance (10 percent) and second for the incidental catch allowance (50,000 mt), is further allocated by sector for a pollock directed fishery as follows: inshore—50 percent; catcher/processor—40 percent; and motherships—10 percent. Section 679.20(a)(5)(iii)(B)(1) requires the AI pollock TAC to be set at 19,000 mt when the AI pollock ABC equals or exceeds 19,000 mt. Under § 679.20(a)(5)(iii)(B)(2), the annual AI pollock TAC, after subtracting first for the CDQ directed fishing allowance (10 percent) and second for the incidental catch allowance (3,420 mt), is allocated to the Aleut Corporation for a pollock directed fishery. The Bogoslof pollock TAC is set to accommodate incidental catch amounts.
⁵ The BS Pacific cod TAC is set to account for the 12 percent, plus 45 mt, of the BS ABC for the State's guideline harvest level in State waters of the BS. The AI Pacific cod TAC is set to account for 35 percent of the AI ABC for the State guideline harvest level in State waters of the AI.
⁶ The sablefish OFL and ABC are Alaska-wide and include the Gulf of Alaska. The Alaska-wide sablefish OFL and ABC are included in the total OFL and ABC. The BS and AI sablefish TACs are set to account for the 5 percent of the BS and AI ABC for the State's guideline harvest level in State waters.
⁷ “Rock sole” includes Lepidopsetta polyxystra (Northern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for dark rockfish, Pacific ocean perch, northern rockfish, blackspotted/rougheye rockfish, and shortraker rockfish.

Groundfish Reserves and the ICA for Pollock, Atka Mackerel, Flathead Sole, Rock Sole, Yellowfin Sole, and AI Pacific Ocean Perch

Section 679.20(b)(1)(i) requires that NMFS reserve 15 percent of the TAC for each target species (except for pollock, fixed gear allocation of sablefish, and Amendment 80 species) in a non-specified reserve. Section 679.20(b)(1)(ii)(B) requires that NMFS allocate 20 percent of the fixed gear allocation of sablefish to the fixed-gear sablefish CDQ reserve for each subarea. Section 679.20(b)(1)(ii)(D) requires that NMFS allocate 7.5 percent of the trawl gear allocations of sablefish in the BS and AI and 10.7 percent of the BS Greenland turbot and arrowtooth flounder TACs to the respective CDQ reserves. Section 679.20(b)(1)(ii)(C) requires that NMFS allocate 10.7 percent of the TACs for Atka mackerel, AI Pacific ocean perch, yellowfin sole, rock sole, flathead sole, and Pacific cod (the Amendment 80 species) to the respective CDQ reserves.

Section 679.20(b)(1)(ii)(A) also requires that 10 percent of the BS pollock TAC be allocated to the pollock CDQ directed fishing allowance (DFA). Section 679.20(b)(1)(ii)(A) requires that 10 percent of the AI pollock TAC be allocated to the pollock CDQ DFA. The entire Bogoslof District pollock TAC is allocated as an ICA pursuant to § 679.20(a)(5)(ii) because the Bogoslof District is closed to directed fishing for pollock by regulation (§ 679.22(a)(7)(B)). With the exception of the fixed gear sablefish CDQ reserve, the regulations do not further apportion the CDQ allocations by gear.

Pursuant to § 679.20(a)(5)(i)(A)(1), NMFS allocates a pollock ICA of 50,000 mt of the BS pollock TAC after subtracting the 10 percent CDQ DFA. This allowance is based on NMFS's examination of the pollock incidental catch, including the incidental catch by CDQ vessels, in target fisheries other than pollock from 2000-2023. During this 24-year period, the pollock incidental catch ranged from a low of 2.2 percent in 2006 to a high of 4.6 percent in 2014, with a 24-year average of 3 percent. Pursuant to § 679.20(a)(5)(iii)(B)(2), NMFS establishes a pollock ICA of 3,420 mt of the AI pollock TAC after subtracting the 10 percent CDQ DFA. This allowance is based on NMFS's examination of the pollock incidental catch, including the incidental catch by CDQ vessels, in target fisheries other than pollock from 2003-2023. During this 21-year period, the incidental catch of pollock ranged from a low of 5 percent in 2006 to a high of 17 percent in 2014, with a 21-year average of 9 percent.

After subtracting the 10.7 percent CDQ reserve and pursuant to § 679.20(a)(8) and (10), NMFS allocates ICAs of 3,000 mt of flathead sole, 6,000 mt of rock sole, 4,000 mt of yellowfin sole, 10 mt of Western Aleutian district (WAI) Pacific ocean perch, 60 mt of Central Aleutian district (CAI) Pacific ocean perch, 100 mt of Eastern Aleutian district (EAI) Pacific ocean perch, 20 mt of WAI Atka mackerel, 75 mt of CAI Atka mackerel, and 800 mt of EAI and BS Atka mackerel. These ICA allowances are based on NMFS's examination of the incidental catch in other target fisheries from 2003 through 2023.

The regulations do not designate the remainder of the non-specified reserve by species or species group. Any amount of the reserve may be apportioned to a target species that contributed to the non-specified reserves during the year, provided that such apportionments are consistent with § 679.20(a)(3) and do not result in overfishing (see § 679.20(b)(1)(i)). The Regional Administrator has determined that the ITACs specified for two species group listed in tables 1 and 2 need to be supplemented from the non-specified reserve because U.S. fishing vessels have demonstrated the capacity to catch the full TAC allocations. Therefore, in accordance with § 679.20(b), NMFS is apportioning the amounts shown in table 3 from the non-specified reserve to increase the ITAC for AI “other rockfish” and blackspotted/rougheye rockfish in the Central Aleutian district and Western Aleutian district (CAI/WAI) by 15 percent of their TACs in 2024 and 2025.

Table 3—Final 2024 and 2025 Apportionment of Non-Specified Reserves to ITAC Categories
[Amounts are in metric tons]
Species-area or subarea | 2024 ITAC | 2024 reserve amount | 2024 final TAC | 2025 ITAC | 2025 reserve amount | 2025 final TAC
Other rockfish-Aleutian Islands subarea | 323 | 57 | 380 | 323 | 57 | 380
Blackspotted/Rougheye rockfish—CAI/WAI | 154 | 27 | 181 | 166 | 29 | 195
Total | 477 | 84 | 561 | 489 | 86 | 575

Allocation of Pollock TAC Under the American Fisheries Act (AFA)

Section 679.20(a)(5)(i)(A) requires that the BS pollock TAC be apportioned as a DFA, after subtracting 10 percent for the CDQ program and 50,000 mt for the ICA in both 2024 and 2025, as follows: 50 percent to the inshore sector, 40 percent to the catcher/processor (CP) sector, and 10 percent to the mothership sector. In the BS, 45 percent of the DFAs are allocated to the A season (January 20-June 10), and 55 percent of the DFAs are allocated to the B season (June 10-November 1) (§§ 679.20(a)(5)(i)(B)(1) and 679.23(e)(2)). The AI directed pollock fishery allocation to the Aleut Corporation is the amount of pollock TAC remaining in the AI after subtracting 1,900 mt for the CDQ DFA (10 percent) and 3,420 mt for the ICA (§ 679.20(a)(5)(iii)(B)(2)). In the AI, the total A season apportionment of the TAC (including the AI directed fishery allocation, the CDQ DFA, and the ICA) may not exceed 40 percent of the ABC for AI pollock, and the remainder of the TAC is allocated to the B season (§ 679.20(a)(5)(iii)(B)(3)). Tables 4 and 5 list these 2024 and 2025 amounts.

Section 679.20(a)(5)(iii)(B)(6) sets harvest limits for pollock in the A season (January 20 to June 10) in Areas 543, 542, and 541. In accordance with this regulation, NMFS establishes harvest limits for pollock in the A season in Area 541 of no more than 30 percent, in Area 542 of no more than 15 percent, and in Area 543 of no more than 5 percent of the Aleutian Islands pollock ABC.

Section 679.20(a)(5)(i)(A)(4) also includes several specific requirements regarding BS pollock allocations. First, it requires that 8.5 percent of the pollock allocated to the CP sector be available for harvest by AFA CVs with CP sector endorsements, unless the Regional Administrator receives a cooperative contract that allows for the distribution of harvest among AFA CPs and AFA CVs in a manner agreed to by all members. Second, AFA CPs not listed in the AFA are limited to harvesting not more than 0.5 percent of the pollock allocated to the CP sector. Tables 4 and 5 list the 2024 and 2025 allocations of pollock TAC. Table 6 lists the 2024 inshore sector allocation among AFA inshore cooperatives and AFA open access vessels. The 2025 AFA CV cooperative membership will not be known until eligible participants apply for participation in the program by December 1, 2024. Table 22 lists the CDQ allocation of pollock among the CDQ groups. Tables 24, 25, and 26 list the AFA CP and CV harvesting sideboard limits.

Tables 4, 5, and 6 also list seasonal apportionments of pollock and harvest limits within the Steller Sea Lion Conservation Area (SCA). The harvest of pollock within the SCA, as defined at § 679.22(a)(7)(vii), is limited to no more than 28 percent of the annual pollock DFA before 12 p.m. A.l.t. (noon), April 1, as provided in § 679.20(a)(5)(i)(C). The A season pollock SCA harvest limit is apportioned to each sector in proportion to each sector's allocated percentage of the DFA.

Table 4—Final 2024 Allocations of Pollock TACs to the Directed Pollock Fisheries and to the CDQ Directed Fishing Allowances (DFA) ¹
[Amounts are in metric tons]
Area and sector | 2024 Allocations | 2024 A season ¹: A season DFA | 2024 A season ¹: SCA harvest limit ² | 2024 B season ¹: B season DFA
Bering Sea subarea TAC ¹ | 1,300,000 | n/a | n/a | n/a
CDQ DFA | 130,000 | 58,500 | 36,400 | 71,500
ICA ¹ | 50,000 | n/a | n/a | n/a
Total Bering Sea non-CDQ DFA | 1,120,000 | 504,000 | 313,600 | 616,000
AFA Inshore | 560,000 | 252,000 | 156,800 | 308,000
AFA Catcher/Processors ³ | 448,000 | 201,600 | 125,440 | 246,400
Catch by CPs | 409,920 | 184,464 | n/a | 225,456
Catch by CVs ³ | 38,080 | 17,136 | n/a | 20,944
Unlisted CP Limit ⁴ | 2,240 | 1,008 | n/a | 1,232
AFA Motherships | 112,000 | 50,400 | 31,360 | 61,600
Excessive Harvesting Limit ⁵ | 196,000 | n/a | n/a | n/a
Excessive Processing Limit ⁶ | 336,000 | n/a | n/a | n/a
Aleutian Islands subarea ABC | 42,654 | n/a | n/a | n/a
Aleutian Islands subarea TAC ¹ | 19,000 | n/a | n/a | n/a
CDQ DFA | 1,900 | 1,872 | n/a | 28
ICA | 3,420 | 1,710 | n/a | 1,710
Aleut Corporation | 13,680 | 13,479 | n/a | 201
Area harvest limit ⁷ | n/a | n/a | n/a | n/a
541 | 12,796 | n/a | n/a | n/a
542 | 6,398 | n/a | n/a | n/a
543 | 2,133 | n/a | n/a | n/a
Bogoslof District ICA ⁸ | 250 | n/a | n/a | n/a
Note: Seasonal or sector apportionments may not total precisely due to rounding.
¹ Pursuant to § 679.20(a)(5)(i)(A), the BS pollock TAC, after subtracting the CDQ DFA (10 percent) and the ICA (50,000 mt, ~3.85 percent), is allocated as a DFA as follows: inshore sector—50 percent, catcher/processor sector (CP)—40 percent, and mothership sector—10 percent. In the BS subarea, 45 percent of the DFA and CDQ DFA are allocated to the A season (January 20-June 10) and 55 percent of the DFA and CDQ DFA are allocated to the B season (June 10-November 1). When the AI pollock ABC equals or exceeds 19,000 mt, the annual TAC is equal to 19,000 mt (§ 679.20(a)(5)(iii)(B)(1)). Pursuant to § 679.20(a)(5)(iii)(B)(2), the AI subarea pollock TAC, after subtracting first for the CDQ DFA (10 percent) and second for the ICA (3,420 mt), is allocated to the Aleut Corporation for a pollock directed fishery. In the AI subarea, the A season is allocated no more than 40 percent of the AI pollock ABC.
² In the BS subarea, pursuant to § 679.20(a)(5)(i)(C), no more than 28 percent of each sector's annual DFA may be taken from the SCA before 12:00 p.m. A.l.t., April 1. The SCA is defined at § 679.22(a)(7)(vii).
³ Pursuant to § 679.20(a)(5)(i)(A)(4), 8.5 percent of the allocation to listed CPs shall be available for harvest only by eligible catcher vessels with a CP endorsement delivering to listed CPs, unless there is a CP sector cooperative contract for the year.
⁴ Pursuant to § 679.20(a)(5)(i)(A)(4)(iii), the AFA unlisted CPs are limited to harvesting not more than 0.5 percent of the CP sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the AI pollock ABC.
⁸ Pursuant to § 679.22(a)(7)(B), the Bogoslof District is closed to directed fishing for pollock. The amounts specified are for incidental catch only and are not apportioned by season or sector.

Table 5—Final 2025 Allocations of Pollock TACs to the Directed Pollock Fisheries and to the CDQ Directed Fishing Allowances (DFA) ¹
[Amounts are in metric tons]
Area and sector | 2025 Allocations | 2025 A season ¹: A season DFA | 2025 A season ¹: SCA harvest limit ² | 2025 B season ¹: B season DFA
Bering Sea subarea TAC ¹ | 1,325,000 | n/a | n/a | n/a
CDQ DFA | 132,500 | 59,625 | 37,100 | 72,875
ICA ¹ | 50,000 | n/a | n/a | n/a
Total Bering Sea non-CDQ DFA | 1,142,500 | 514,125 | 319,900 | 628,375
AFA Inshore | 571,250 | 257,063 | 159,950 | 314,188
AFA Catcher/Processors ³ | 457,000 | 205,650 | 127,960 | 251,350
Catch by CPs | 418,155 | 188,170 | n/a | 229,985
Catch by CVs ³ | 38,845 | 17,480 | n/a | 21,365
Unlisted CP Limit ⁴ | 2,285 | 1,028 | n/a | 1,257
AFA Motherships | 114,250 | 51,413 | 31,990 | 62,838
Excessive Harvesting Limit ⁵ | 199,938 | n/a | n/a | n/a
Excessive Processing Limit ⁶ | 342,750 | n/a | n/a | n/a
Aleutian Islands subarea ABC | 43,863 | n/a | n/a | n/a
Aleutian Islands subarea TAC ¹ | 19,000 | n/a | n/a | n/a
CDQ DFA | 1,900 | 1,900 | n/a |
ICA | 3,420 | 1,710 | n/a | 1,710
Aleut Corporation | 13,680 | 13,680 | n/a |
Area harvest limit ⁷ | n/a | n/a | n/a | n/a
541 | 13,159 | n/a | n/a | n/a
542 | 6,579 | n/a | n/a | n/a
543 | 2,193 | n/a | n/a | n/a
Bogoslof District ICA ⁸ | 250 | n/a | n/a | n/a
Note: Seasonal or sector apportionments may not total precisely due to rounding.
¹ Pursuant to § 679.20(a)(5)(i)(A), the BS subarea pollock TAC, after subtracting the CDQ DFA (10 percent) and the ICA (50,000 mt, ~3.85 percent), is allocated as a DFA as follows: inshore sector—50 percent, catcher/processor sector (CP)—40 percent, and mothership sector—10 percent. In the BS subarea, 45 percent of the DFA and CDQ DFA are allocated to the A season (January 20-June 10) and 55 percent of the DFA and CDQ DFA are allocated to the B season (June 10-November 1). When the AI pollock ABC equals or exceeds 19,000 mt, the annual TAC is equal to 19,000 mt (§ 679.20(a)(5)(iii)(B)(1)). Pursuant to § 679.20(a)(5)(iii)(B)(2), the AI subarea pollock TAC, after subtracting first for the CDQ DFA (10 percent) and second for the ICA (3,420 mt), is allocated to the Aleut Corporation for a pollock directed fishery. In the AI subarea, the A season is allocated no more than 40 percent of the AI pollock ABC.
² In the BS subarea, pursuant to § 679.20(a)(5)(i)(C), no more than 28 percent of each sector's annual DFA may be taken from the SCA before 12:00 p.m. A.l.t., April 1. The SCA is defined at § 679.22(a)(7)(vii).
³ Pursuant to § 679.20(a)(5)(i)(A)(4), 8.5 percent of the allocation to listed CPs shall be available for harvest only by eligible catcher vessels with a CP endorsement delivering to listed CPs, unless there is a CP sector cooperative contract for the year.
⁴ Pursuant to § 679.20(a)(5)(i)(A)(4)(iii), the AFA unlisted CPs are limited to harvesting not more than 0.5 percent of the CP sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the AI pollock ABC.
⁸ Pursuant to § 679.22(a)(7)(B), the Bogoslof District is closed to directed fishing for pollock. The amounts specified are for incidental catch only and are not apportioned by season or sector.

Table 6—Final 2024 AFA Inshore Cooperative and Open Access Pollock Allocations, and Inshore Sector Steller Sea Lion Conservation Area Limits
Cooperative name ¹ | Percent of inshore sector allocation | Sum of vessel's catch histories (mt) ² | 2024 Allocations (mt)
AFA Open Access | 2.103 | 18,414 | 11,777
Akutan Catcher Vessel Association | 33.788 | 295,836 | 189,212
Northern Victor Fleet Cooperative | 9.346 | 81,828 | 52,336
Unalaska Fleet Cooperative (Alyeska) | 12.261 | 107,357 | 68,663
UniSea Fleet Cooperative | 23.122 | 202,454 | 129,486
Westward Fleet Cooperative | 19.380 | 169,683 | 108,526
Sum of all Cooperatives | 100.000 | 875,572 | 560,000
Inshore Sector Steller Sea Lion Conservation Area (SCA) Limits
| 2024 A season TAC | 2024 A season SCA harvest limit ³ | 2024 B season TAC
Inshore cooperative sector:
Vessels >99 ft | n/a | 134,934 | n/a
Vessels ≤99 ft | n/a | 21,866 | n/a
Total | 252,000 | 156,800 | 308,000
Open access sector |  |  |
Total inshore sector | 252,000 | 156,800 | 308,000
Note: Totals may not add up due to rounding.
¹ The 2025 AFA catcher vessel cooperative membership will not be known until eligible participants apply for participation in the program by December 1, 2024.
² According to regulations at § 679.62(a)(1), the individual catch history for each vessel is equal to the vessel's best 2 of 3 years inshore pollock landings from 1995 through 1997 and includes landings to catcher/processors and motherships for vessels that made 500 or more mt of landings to catcher/processors and motherships from 1995 through 1997.
³ The Steller sea lion conservation area (SCA) is established at § 679.22(a)(7)(vii). The SCA limitations for vessels less than or equal to 99 ft LOA that are not participating in a cooperative will be established on an inseason basis in accordance with § 679.22(a)(7)(vii)(C)(2), and the Regional Administrator will prohibit directed fishing for pollock by vessels greater than 99 ft (30.2 m) LOA, catching pollock for processing by the inshore component before reaching the inshore SCA harvest limit before April 1 to accommodate fishing by vessels less than or equal to 99 ft (30.2 m) inside the SCA until April 1.

Allocation of the Atka Mackerel TACs

Section 679.20(a)(8) allocates the Atka mackerel TACs to the Amendment 80 and BSAI trawl limited access sectors, after subtracting the CDQ reserves, ICAs for the BSAI trawl limited access sector and non-trawl gear sector, and the jig gear allocation (tables 7 and 8). The percentage of the ITAC for Atka mackerel allocated to the Amendment 80 and BSAI trawl limited access sectors is listed in table 33 to 50 CFR part 679 and in § 679.91. Pursuant to § 679.20(a)(8)(i), up to 2 percent of the EAI and the BS Atka mackerel TAC may be allocated to vessels using jig gear. The percent of this allocation is recommended annually by the Council based on several criteria, including, among other criteria, the anticipated harvest capacity of the jig gear fleet. After reviewing Council recommendations, NMFS approves a 0.5 percent allocation of the Atka mackerel TAC in the EAI and BS to the jig gear sector in 2024 and 2025.

Section 679.20(a)(8)(ii)(A) apportions the Atka mackerel TAC, after subtraction of the jig gear allocation, into two equal seasonal allowances. Section 679.23(e)(3) sets the first seasonal allowance for directed fishing with trawl gear from January 20 through June 10 (A season), and the second seasonal allowance from June 10 through December 31 (B season). Section 679.23(e)(4)(iii) applies Atka mackerel seasons to CDQ Atka mackerel trawl fishing. Within any fishing year, any under harvest or over harvest of a seasonal allowance may be added to or subtracted from a subsequent seasonal allowance (§ 679.20(a)(8)(ii)(B)). The ICAs and jig gear allocations are not apportioned by season.

Sections 679.20(a)(8)(ii)(C)(1)(i) and (ii) limits Atka mackerel catch within waters 0 nautical miles (nmi) to 20 nmi of Steller sea lion sites listed in table 6 to 50 CFR part 679 and located west of 178° W longitude to no more than 60 percent of the annual TACs in Areas 542 and 543. The annual harvest is also equally divided between the A and B seasons as defined at § 679.23(e)(3). Section 679.20(a)(8)(ii)(C)(2) requires that the annual TAC in Area 543 will be no more than 65 percent of the ABC in Area 543. Section 679.20(a)(8)(ii)(D) requires that any unharvested Atka mackerel A season allowance that is added to the B season be prohibited from being harvested within waters 0 nmi to 20 nmi of Steller sea lion sites listed in table 6 to 50 CFR part 679 and located in Areas 541, 542, and 543.

Tables 7 and 8 list these 2024 and 2025 Atka mackerel seasonal and area allowances, and the sector allocations. One Amendment 80 cooperative has formed for the 2024 fishing year. Because all Amendment 80 vessels are part of the sole Amendment 80 cooperative, no allocation to the Amendment 80 limited access sector is required for 2024. The 2025 allocations for Atka mackerel between Amendment 80 cooperatives and the Amendment 80 limited access sector will not be known until eligible participants apply for participation in the program by November 1, 2024. Table 22 lists the allocation of CDQ Atka mackerel among the CDQ groups.

Table 7—Final 2024 Seasonal and Spatial Allowances, Gear Shares, CDQ Reserve, Incidental Catch Allowance, and Amendment 80 Allocations of the BSAI Atka Mackerel TAC
[Amounts are in metric tons]
Sector ¹ | Season 2 3 4 | 2024 Allocation by area: Eastern Aleutian District/ Bering Sea | 2024 Allocation by area: Central Aleutian District ⁵ | 2024 Allocation by area: Western Aleutian District
TAC | n/a | 32,260 | 16,754 | 23,973
CDQ reserve | Total | 3,452 | 1,793 | 2,565
| A | 1,726 | 896 | 1,283
| Critical Habitat | n/a | 538 | 770
| B | 1,726 | 896 | 1,283
| Critical Habitat | n/a | 538 | 770
Non-CDQ TAC | n/a | 28,808 | 14,961 | 21,408
ICA | Total | 800 | 75 | 20
Jig ⁶ | Total | 140 |  |
BSAI trawl limited access | Total | 2,787 | 1,489 |
| A | 1,393 | 744 |
| Critical Habitat | n/a | 447 |
| B | 1,393 | 744 |
| Critical Habitat | n/a | 447 |
Amendment 80 sector | Total | 25,081 | 13,398 | 21,388
| A | 12,541 | 6,699 | 10,694
| Critical Habitat | n/a | 4,019 | 6,416
| B | 12,541 | 6,699 | 10,694
| Critical Habitat | n/a | 4,019 | 6,416
Note: Seasonal or sector apportionments may not total precisely due to rounding.
¹ Section 679.20(a)(8)(ii) allocates the Atka mackerel TACs, after subtracting the CDQ reserves, ICAs, and jig gear allocation, to the Amendment 80 and BSAI trawl limited access sectors. The allocation of the ITAC for Atka mackerel to the Amendment 80 and BSAI trawl limited access sectors is established in table 33 to 50 CFR part 679 and § 679.91. The CDQ reserve is 10.7 percent of the TAC for use by CDQ participants (see § 679.20(b)(1)(ii)(C)).
² Sections 679.20(a)(8)(ii)(A) and 679.22(a) establish temporal and spatial limitations for the Atka mackerel fishery.
³ The seasonal allowances of Atka mackerel for the CDQ reserve, BSAI trawl limited access sector, and Amendment 80 sector are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion protection areas; section 679.20(a)(8)(ii)(C)(1)(ii) equally divides the annual harvest limits between the A and B seasons as defined at § 679.23(e)(3); and section 679.20(a)(8)(ii)(C)(2) requires that the TAC in Area 543 shall be no more than 65 percent of ABC in Area 543.
⁶ Sections 679.2 and 679.20(a)(8)(i) require that up to 2 percent of the Eastern Aleutian Islands District and the Bering Sea subarea TAC be allocated to jig gear after subtracting the CDQ reserve and the ICA. NMFS sets the amount of this allocation for 2024 at 0.5 percent. The jig gear allocation is not apportioned by season.

Table 8—Final 2025 Seasonal and Spatial Allowances, Gear Shares, CDQ Reserve, Incidental Catch Allowance, and Amendment 80 Allocations of the BSAI Atka Mackerel TAC
[Amounts are in metric tons]
Sector ¹ | Season 2 3 4 | 2025 Allocation by area: Eastern Aleutian District/ Bering Sea ⁵ | 2025 Allocation by area: Central Aleutian District ⁵ | 2025 Allocation by area: Western Aleutian District ⁵
TAC | n/a | 30,000 | 14,877 | 21,288
CDQ reserve | Total | 3,210 | 1,592 | 2,278
| A | 1,605 | 796 | 1,139
| Critical Habitat | n/a | 478 | 683
| B | 1,605 | 796 | 1,139
| Critical Habitat | n/a | 478 | 683
non-CDQ TAC | n/a | 26,790 | 13,285 | 19,010
ICA | Total | 800 | 75 | 20
Jig ⁶ | Total | 130 |  |
BSAI trawl limited access | Total | 2,586 | 1,321 |
| A | 1,293 | 661 |
| Critical Habitat | n/a | 396 |
| B | 1,293 | 661 |
| Critical Habitat | n/a | 396 |
Amendment 80 sectors ⁷ | Total | 23,274 | 11,889 | 18,990
| A | 11,637 | 5,945 | 9,495
| Critical Habitat | n/a | 3,567 | 5,697
| B | 11,637 | 5,945 | 9,495
| Critical Habitat | n/a | 3,567 | 5,697
Note: Seasonal or sector apportionments may not total precisely due to rounding.
¹ Section 679.20(a)(8)(ii) allocates the Atka mackerel TACs, after subtracting the CDQ reserves, ICAs, and jig gear allocation, to the Amendment 80 and BSAI trawl limited access sectors. The allocation of the ITAC for Atka mackerel to the Amendment 80 and BSAI trawl limited access sectors is established in table 33 to 50 CFR part 679 and § 679.91. The CDQ reserve is 10.7 percent of the TAC for use by CDQ participants (see § 679.20(b)(1)(ii)(C)).
² Sections 679.20(a)(8)(ii)(A) and 679.22(a) establish temporal and spatial limitations for the Atka mackerel fishery.
³ The seasonal allowances of Atka mackerel for the CDQ reserve, BSAI trawl limited access sector, and Amendment 80 sector are 50 percent in the A season and 50 percent in the B season.
⁴ Section 679.23(e)(3) authorizes directed fishing for Atka mackerel with trawl gear during the A season from January 20 to June 10 and the B season from June 10 to December 31.
⁵ Section 679.20(a)(8)(ii)(C)(1)(i) limits no more than 60 percent of the annual TACs in Areas 542 and 543 to be caught inside of Steller sea lion protection areas; section 679.20(a)(8)(ii)(C)(1)(ii) equally divides the annual harvest limits between the A and B seasons as defined at § 679.23(e)(3); and section 679.20(a)(8)(ii)(C)(2) requires that the TAC in Area 543 shall be no more than 65 percent of ABC in Area 543.
⁶ Sections 679.2 and 679.20(a)(8)(i) require that up to 2 percent of the Eastern Aleutian Islands District and the Bering Sea subarea TAC be allocated to jig gear after subtracting the CDQ reserve and the ICA. NMFS sets the amount of this allocation for 2025 at 0.5 percent. The jig gear allocation is not apportioned by season.
⁷ The 2025 allocations for Atka mackerel between Amendment 80 cooperatives and the Amendment 80 limited access sector will not be known until eligible participants apply for participation in the program by November 1, 2024.

Allocation of the Pacific Cod TAC

The Council separated the BSAI OFL, ABC, and TAC into BS and AI subarea OFLs, ABCs, and TACs for Pacific cod in 2014 (79 FR 12108, March 4, 2014). Section 679.20(b)(1)(ii)(C) allocates 10.7 percent of the BS TAC and the AI TAC to the CDQ program. After CDQ allocations have been deducted from the respective BS and AI Pacific cod TACs, the remaining BSAI Pacific cod TACs are combined for calculating further BSAI Pacific cod sector allocations and seasonal allowances. If the non-CDQ Pacific cod TAC is or will be reached in either the BS or the AI subareas, NMFS will prohibit non-CDQ directed fishing for Pacific cod in that subarea as provided in § 679.20(d)(1)(iii).

Section 679.20(a)(7)(ii) allocates to the non-CDQ sectors the Pacific cod TAC in the combined BSAI, after subtracting 10.7 percent for the CDQ program, as follows: 1.4 percent to vessels using jig gear; 2.0 percent to hook-and-line or pot CVs less than 60 ft (18.3 m) length overall (LOA); 0.2 percent to hook-and-line CVs greater than or equal to 60 ft (18.3 m) LOA; 48.7 percent to hook-and-line CPs; 8.4 percent to pot CVs greater than or equal to 60 ft (18.3 m) LOA; 1.5 percent to pot CPs; 2.3 percent to AFA trawl CPs; 13.4 percent to Amendment 80 sector; and 22.1 percent to trawl CVs. The ICA for the hook-and-line and pot sectors will be deducted from the aggregate portion of Pacific cod TAC allocated to the hook-and-line and pot sectors. For 2024 and 2025, the Regional Administrator establishes an ICA of 500 mt based on anticipated incidental catch by these sectors in other fisheries. During the fishing year, NMFS may reallocate unharvested Pacific cod among sectors, consistent with the reallocation hierarchy set forth at § 679.20(a)(7)(iii).

The ITAC allocation of Pacific cod to the Amendment 80 sector is established in table 33 to 50 CFR part 679 and § 679.91. One Amendment 80 cooperative has formed for the 2024 fishing year. Because all Amendment 80 vessels are part of the sole Amendment 80 cooperative, no allocation to the Amendment 80 limited access sector is required for 2024. The 2025 allocations for Pacific cod between Amendment 80 cooperatives and the Amendment 80 limited access sector will not be known until eligible participants apply for participation in the program by November 1, 2024.

The BSAI ITAC allocation of Pacific cod to the PCTC Program is established in § 679.131(b). Section 679.131(b)(1)(i) also requires NMFS to establish an ICA for incidental catch of Pacific cod by trawl CVs engaged in directed fishing for groundfish other than PCTC Program Pacific cod. In the annual harvest specification process, NMFS determines the Pacific cod trawl catcher vessel TAC and the annual apportionment of Pacific cod in the A and B seasons between the PCTC Program DFA and the ICA (§ 679.131(b)(2)) (table 9 below). The 2025 allocations for PCTC Program cooperatives will not be known until NMFS receives the membership applications by November 1, 2024. The 2024 PCTC cooperative allocations and PSC allowances are listed in table 11.

The sector allocations of Pacific cod are apportioned into seasonal allowances to disperse the Pacific cod fisheries over the fishing year (see §§ 679.20(a)(7)(i)(B) (CDQ), 679.20(a)(7)(iv)(A) (non-CDQ), and 679.23(e)(5) (seasons)). Tables 9 and 10 list the non-CDQ sector and seasonal allowances. In accordance with § 679.20(a)(7)(iv)(B) and (C), any unused portion of a non-CDQ Pacific cod seasonal allowance for any sector, except the jig sector, will become available at the beginning of that sector's next seasonal allowance. Section 679.20(a)(7)(i)(B) sets forth the CDQ Pacific cod gear allowances by season, and CDQ groups are prohibited from exceeding those seasonal allowances (§ 679.7(d)(6)).

Section 679.20(a)(7)(vii) requires that the Regional Administrator establish an Area 543 Pacific cod harvest limit based on Pacific cod abundance in Area 543 as determined by the annual stock assessment process. Based on the 2023 stock assessment, the Regional Administrator determined for 2024 and 2025 the estimated amount of Pacific cod abundance in Area 543 is 15.7 percent of the total AI abundance. To calculate the Area 543 Pacific cod harvest limit, NMFS first subtracts the State GHL Pacific cod amount from the AI Pacific cod ABC. Then NMFS determines the harvest limit in Area 543 by multiplying the percentage of Pacific cod estimated in Area 543 (15.7 percent) by the remaining ABC for AI Pacific cod. Based on these calculations, the Area 543 harvest limit is 1,269 mt for 2024 and 2025.

Under the PCTC Program, PCTC Program cooperatives are required to collectively set aside up to twelve percent of the trawl CV A-season allocation for delivery to an AI shoreplant in years in which an AI community representative notifies NMFS of the intent to process PCTC Program Pacific cod in the City of Adak or City of Atka (§ 679.132). A notice of intent to process PCTC Program Pacific cod must be submitted in writing to the Regional Administrator by a representative of the City of Adak or the City of Atka no later than October 15. A notice of intent was not received in 2023, and accordingly the AI set-aside will not be in effect for 2024. The 2025 set-aside will be determined after the October 15, 2024 deadline in conjunction with the 2025 and 2026 harvest specifications process.

Based on the final 2024 and 2025 Pacific cod TACs, table 9 and table 10 list the CDQ and non-CDQ TAC amounts; non-CDQ seasonal allowances by gear; the sector allocations of Pacific cod; and the seasons set forth at § 679.23(e)(5). The CDQ allocation by CDQ groups is listed in table 22.

Table 9—Final 2024 Sector Allocations and Seasonal Allowances of the BSAI Pacific Cod TAC
[Amounts are in metric tons]
Sector | Percent | 2024 Share of gear sector total | 2024 Share of sector total | 2024 Seasonal allowances: Season | 2024 Seasonal allowances: Amount
Total Bering Sea TAC | n/a | 147,753 | n/a | n/a | n/a
Bering Sea CDQ | n/a | 15,810 | n/a | See § 679.20(a)(7)(i)(B) | n/a
Bering Sea non-CDQ TAC | n/a | 131,943 | n/a | n/a | n/a
Total Aleutian Islands TAC | n/a | 8,080 | n/a | n/a | n/a
Aleutian Islands CDQ | n/a | 865 | n/a | See § 679.20(a)(7)(i)(B) | n/a
Aleutian Islands non-CDQ TAC | n/a | 7,215 | n/a | n/a | n/a
Western Aleutians Islands Limit | n/a | 1,269 | n/a | n/a | n/a
Total BSAI non-CDQ TAC ¹ | 100.0 | 139,159 | n/a | n/a | n/a
Total hook-and-line/pot gear | 60.8 | 84,609 | n/a | n/a | n/a
Hook-and-line/pot ICA ² | n/a | n/a | 500 | n/a | n/a
Hook-and-line/pot sub-total | n/a | 84,109 | n/a | n/a | n/a
Hook-and-line catcher/processors | 48.7 | n/a | 67,370 | n/a | n/a
A-season |  |  |  | Jan 1-Jun 10 | 34,359
B-season |  |  |  | Jun 10-Dec 31 | 33,011
Hook-and-line catcher vessels ≥60 ft LOA | 0.2 | n/a | 277 | n/a | n/a
A-season |  |  |  | Jan 1-Jun 10 | 141
B-season |  |  |  | Jun 10-Dec 31 | 136
Pot catcher/processors | 1.5 | n/a | 2,075 | n/a | n/a
Pot catcher/processors A-season |  |  |  | Jan 1-Jun 10 | 1,058
Pot catcher/processors B-season |  |  |  | Sept 1-Dec 31 | 1,017
Pot catcher vessels ≥60 ft LOA | 8.4 | n/a | 11,620 | n/a | n/a
A-season |  |  |  | Jan 1-Jun 10 | 5,926
B-season |  |  |  | Sept 1-Dec 31 | 5,694
Catcher vessels <60 ft LOA using hook-and-line or pot gear | 2.0 | n/a | 2,767 | n/a | n/a
Trawl catcher vessels ³ | 22.1 | 30,754 | n/a | n/a | n/a
A-season ICA |  |  |  | Jan 20-Apr 1 | 1,500
A-season PCTC |  |  |  | Jan 20-Apr 1 | 21,258
B-season ICA |  |  |  | Apr 1-Jun 10 | 700
B-season PCTC |  |  |  | Apr 1-Jun 10 | 2,683
C-season trawl catcher vessels |  |  |  | Jun 10-Nov 1 | 4,613
AFA trawl catcher/processors | 2.3 | 3,201 | n/a | n/a | n/a
A-season |  |  |  | Jan 20-Apr 1 | 2,400
B-season |  |  |  | Apr 1-Jun 10 | 800
C-season |  |  |  | Jun 10-Nov 1 |
Amendment 80 | 13.4 | 18,647 | n/a | n/a | n/a
A-season |  |  |  | Jan 20-Apr 1 | 13,985
B-season |  |  |  | Apr 1-Jun 10 | 4,662
C-season |  |  |  | Jun 10-Dec 31 |
Jig | 1.4 | 1,948 | n/a | n/a | n/a
A-season |  |  |  | Jan 1-Apr 30 | 1,169
B-season |  |  |  | Apr 30-Aug 31 | 390
C-season |  |  |  | Aug 31-Dec 31 | 390
Note: Seasonal or sector apportionments may not total precisely due to rounding.
¹ The sector allocations and seasonal allowances for BSAI Pacific cod TAC are based on the sum of the BS and AI Pacific cod TACs, after subtraction of the reserves for the CDQ Program. If the TAC for Pacific cod in either the BS or AI is or will be reached, then directed fishing will be prohibited for non-CDQ Pacific cod in that subarea, even if a BSAI allowance remains (§ 679.20(d)(1)(iii)).
² The ICA for the hook-and-line and pot sectors is deducted from the aggregate portion of Pacific cod TAC allocated to the hook-and-line and pot sectors. The Regional Administrator approves an ICA of 500 mt based on anticipated incidental catch by these sectors in other fisheries.
³ The A and B season trawl CV Pacific cod allocation is allocated to the Pacific Cod Trawl Cooperative Program after subtraction of the A and B season ICAs (§ 679.131(b)(1)). The Regional Administrator approves for the A and B seasons, ICAs of 1,500 mt and 700 mt, respectively, to account for projected incidental catch of Pacific cod by trawl catcher vessels engaged in directed fishing for groundfish other than PCTC Program Pacific cod.

Table 10—Final 2025 Sector Allocations and Seasonal Allowances of the BSAI Pacific Cod TAC
[Amounts are in metric tons]
Sector | Percent | 2025 Share of gear sector total | 2025 Share of sector total | 2025 Seasonal allowances: Season | 2025 Seasonal allowances: Amount
Total Bering Sea TAC | n/a | 132,726 | n/a | n/a | n/a
Bering Sea CDQ | n/a | 14,202 | n/a | See § 679.20(a)(7)(i)(B) | n/a
Bering Sea non-CDQ TAC | n/a | 118,524 | n/a | n/a | n/a
Total Aleutian Islands TAC | n/a | 8,080 | n/a | n/a | n/a
Aleutian Islands CDQ | n/a | 865 | n/a | See § 679.20(a)(7)(i)(B) | n/a
Aleutian Islands non-CDQ TAC | n/a | 7,215 | n/a | n/a | n/a
Western Aleutians Islands Limit | n/a | 1,269 | n/a | n/a | n/a
Total BSAI non-CDQ TAC ¹ | 100.0 | 125,740 | n/a | n/a | n/a
Total hook-and-line/pot gear | 60.8 | 76,450 | n/a | n/a | n/a
Hook-and-line/pot ICA ² | n/a | n/a | 500 | n/a | n/a
Hook-and-line/pot sub-total | n/a | 75,950 | n/a | n/a | n/a
Hook-and-line catcher/processors | 48.7 | n/a | 60,835 | n/a | n/a
A-season |  |  |  | Jan 1-Jun 10 | 31,026
B-season |  |  |  | Jun 10-Dec 31 | 29,809
Hook-and-line catcher vessels ≥60 ft LOA | 0.2 | n/a | 250 | n/a | n/a
A-season |  |  |  | Jan 1-Jun 10 | 127
B-season |  |  |  | Jun 10-Dec 31 | 122
Pot catcher/processors | 1.5 | n/a | 1,874 | n/a | n/a
Pot catcher/processors A-season |  |  |  | Jan 1-Jun 10 | 956
Pot catcher/processors B-season |  |  |  | Sept 1-Dec 31 | 918
Pot catcher vessels ≥60 ft LOA | 8.4 | n/a | 10,493 | n/a | n/a
A-season |  |  |  | Jan 1-Jun 10 | 5,351
B-season |  |  |  | Sept 1-Dec 31 | 5,142
Catcher vessels <60 ft LOA using hook-and-line or pot gear | 2.0 | n/a | 2,498 | n/a | n/a
Trawl catcher vessels ³ | 22.1 | 27,788 | n/a | n/a | n/a
A-season ICA |  |  |  | Jan 20-Apr 1 | 1,500
A-season PCTC |  |  |  | Jan 20-Apr 1 | 19,063
B-season ICA |  |  |  | Apr 1-Jun 10 | 700
B-season PCTC |  |  |  | Apr 1-Jun 10 | 2,357
C-season trawl catcher vessels |  |  |  | Jun 10-Nov 1 | 4,168
AFA trawl catcher/processors | 2.3 | 2,892 | n/a | n/a | n/a
A-season |  |  |  | Jan 20-Apr 1 | 2,169
B-season |  |  |  | Apr 1-Jun 10 | 723
C-season |  |  |  | Jun 10-Nov 1 |
Amendment 80 | 13.4 | 16,849 | n/a | n/a | n/a
A-season |  |  |  | Jan 20-Apr 1 | 12,637
B-season |  |  |  | Apr 1-Jun 10 | 4,212
C-season |  |  |  | Jun 10-Dec 31 |
Jig | 1.4 | 1,760 | n/a | n/a | n/a
A-season |  |  |  | Jan 1-Apr 30 | 1,056
B-season |  |  |  | Apr 30-Aug 31 | 352
C-season |  |  |  | Aug 31-Dec 31 | 352
¹ The sector allocations and seasonal allowances for BSAI Pacific cod TAC are based on the sum of the BS and AI Pacific cod TACs, after subtraction of the reserves for the CDQ Program. If the TAC for Pacific cod in either the BS or AI is or will be reached, then directed fishing will be prohibited for non-CDQ Pacific cod in that subarea, even if a BSAI allowance remains (§ 679.20(d)(1)(iii)).
² The ICA for the hook-and-line and pot sectors is deducted from the aggregate portion of Pacific cod TAC allocated to the hook-and-line and pot sectors. The Regional Administrator approves an ICA of 500 mt based on anticipated incidental catch by these sectors in other fisheries.
³ The A and B season trawl CV Pacific cod allocation is allocated to the Pacific Cod Trawl Cooperative Program after subtraction of the A and B season ICAs (§ 679.131(b)(1)). The Regional Administrator approves for the A and B seasons, ICAs of 1,500 mt and 700 mt, respectively, to account for projected incidental catch of Pacific cod by trawl catcher vessels engaged in directed fishing for groundfish other than PCTC Program Pacific cod.
Note: Seasonal or sector apportionments may not total precisely due to rounding.

Table 11—Final 2024 PCTC Cooperative Allocations and PSC Allowances
[Pacific cod and Pacific halibut amounts are in metric tons. Crab are in number of animals.]
Cooperative name ¹ | Total Pacific cod CQ | A Season Pacific cod CQ | B Season Pacific cod CQ | Halibut | Red king crab | C. opilio COBLZ | Zone 1 c. bairdi | Zone 2 c. bairdi
GA Catcher Vessels Association | 894 | 794 | 100 | 9.599 | 61 | 1,050 | 1,253 | 1,044
Akutan Cod Association | 14,256 | 12,658 | 1,598 | 8.703 | 55 | 952 | 1,136 | 947
Usixty PCTC Association | 811 | 720 | 91 | 9.475 | 60 | 1,037 | 1,237 | 1,031
Katie Ann Cod Cooperative | 883 | 784 | 99 | 50.54 | 325 | 5,531 | 6,601 | 5,501
USS Cod Cooperative | 2,389 | 2,122 | 268 | 153.03 | 984 | 16,750 | 19,987 | 16,656
Unified Cod Cooperative | 4,708 | 4,180 | 528 | 25.649 | 164 | 2,807 | 3,350 | 2,791
Totals | 23,942 | 21,258 | 2,684 | 257 | 1,653 | 28,130 | 33,567 | 27,973
Note: Totals may not add up due to rounding.
¹ The 2025 allocations for PCTC Cooperatives will not be known until eligible participants apply for participation in the program by November 1, 2024.

Sablefish Gear Allocation

Sections 679.20(a)(4)(iii) and (iv) require allocation of the sablefish TAC for the BS and AI subareas between the trawl gear and fixed gear sectors. Gear allocations of the sablefish TAC for the BS are 50 percent for trawl gear and 50 percent for fixed gear. Gear allocations of the TAC for the AI are 25 percent for trawl gear and 75 percent for fixed gear. Section 679.20(b)(1)(ii)(B) requires that NMFS apportion 20 percent of the fixed gear allocation of sablefish TAC to the CDQ reserve for each subarea. Also, § 679.20(b)(1)(ii)(D)(1) requires that in the BS and AI 7.5 percent of the trawl gear allocation of sablefish TAC from the non-specified reserve, established under § 679.20(b)(1)(i), be assigned to the CDQ reserve.

The Council recommended that only trawl sablefish TAC be established biennially. The harvest specifications for the fixed gear sablefish Individual Fishing Quota (IFQ) fisheries are limited to the 2024 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 12 lists the 2024 and 2025 gear allocations of the sablefish TAC and CDQ reserve amounts. Allocations among CDQ groups are listed in table 22.

Table 12—Final 2024 and 2025 Gear Shares and CDQ Reserve of BSAI Sablefish TACs
[Amounts are in metric tons]
Subarea and gear | Percent of TAC | 2024 Share of TAC | 2024 ITAC | 2024 CDQ reserve | 2025 Share of TAC | 2025 ITAC | 2025 CDQ reserve
Bering Sea:
Trawl gear ¹ | 50 | 3,998 | 3,398 | 300 | 4,750 | 4,038 | 356
Fixed gear ² | 50 | 3,998 | 3,198 | 800 | n/a | n/a | n/a
Total | 100 | 7,996 | 6,597 | 1,099 | 4,750 | 4,038 | 356
Aleutian Islands:
Trawl gear ¹ | 25 | 2,110 | 1,794 | 158 | 2,110 | 1,794 | 158
Fixed gear ² | 75 | 6,330 | 5,064 | 1,266 | n/a | n/a | n/a
Total | 100 | 8,440 | 6,858 | 1,424 | 2,110 | 1,794 | 158
Note: Seasonal or sector apportionments may not total precisely due to rounding.
¹ For the sablefish TAC allocated to vessels using trawl gear, 15 percent of TAC is apportioned to the non-specified reserve (§ 679.20(b)(1)(i)). The ITAC for vessels using trawl gear is the remainder of the TAC after subtracting this reserve. In the BS and AI, 7.5 percent of the trawl gear allocation of the TAC is assigned from the non-specified reserve to the CDQ reserve (§ 679.20(b)(1)(ii)(D)(1)).
² For the portion of the sablefish TAC allocated to vessels using fixed gear, 20 percent of the allocated TAC for the BS and AI is reserved for use by CDQ participants (§ 679.20(b)(1)(ii)(B)). The ITAC for vessels using fixed gear is the remainder of the TAC after subtracting the CDQ reserve for each subarea. The Council recommended, and NMFS concurs, that specifications for the fixed gear sablefish IFQ fisheries be limited to one year.

Allocation of the AI Pacific Ocean Perch, and BSAI Flathead Sole, Rock Sole, and Yellowfin Sole TACs

Sections 679.20(a)(10)(i) and (ii) require that NMFS allocate AI Pacific ocean perch and BSAI flathead sole, rock sole, and yellowfin sole ITACs between the Amendment 80 sector and the BSAI trawl limited access sector, after subtracting 10.7 percent for the CDQ reserves and ICAs for the BSAI trawl limited access sector and vessels using non-trawl gear. The allocations of the ITACs for AI Pacific ocean perch and BSAI flathead sole, rock sole, and yellowfin sole to the Amendment 80 sector are established in accordance with tables 33 and 34 to 50 CFR part 679 and with § 679.91.

One Amendment 80 cooperative has formed for the 2024 fishing year. Because all Amendment 80 vessels are part of the sole Amendment 80 cooperative, no allocation to the Amendment 80 limited access sector is required for 2024. The 2025 allocations for Amendment 80 species between Amendment 80 cooperatives and the Amendment 80 limited access sector will not be known until eligible participants apply for participation in the program by November 1, 2024. Tables 13 and 14 list the 2024 and 2025 allocations of the AI Pacific ocean perch and BSAI flathead sole, rock sole, and yellowfin sole TACs. Allocations among the CDQ groups are listed in table 22.

Table 13—Final 2024 Community Development Quota (CDQ) Reserves, Incidental Catch Amounts (ICAs), and Amendment 80 Allocations of the Aleutian Islands Pacific Ocean Perch and BSAI Flathead Sole, Rock Sole, and Yellowfin Sole TACs
[Amounts are in metric tons]
Sector | Pacific ocean perch: Eastern Aleutian district | Pacific ocean perch: Central Aleutian district | Pacific ocean perch: Western Aleutian district | Flathead sole: BSAI | Rock sole: BSAI | Yellowfin sole: BSAI
TAC | 7,969 | 5,521 | 12,500 | 35,500 | 66,000 | 195,000
CDQ | 853 | 591 | 1,338 | 3,799 | 7,062 | 20,865
ICA | 100 | 60 | 10 | 3,000 | 6,000 | 4,000
BSAI trawl limited access | 702 | 487 | 223 |  |  | 32,996
Amendment 80 | 6,315 | 4,383 | 10,929 | 28,702 | 52,938 | 137,139
Note: Sector apportionments may not total precisely due to rounding.

Table 14—Final 2025 Community Development Quota (CDC) Reserves, Incidental Catch Amounts (ICAs), and Amendment 80 Allocations of the Aleutian Islands Pacific Ocean Perch and BSAI Flathead Sole, Rock Sole, and Yellowfin Sole TACs
[Amounts are in metric tons]
Sector | Pacific ocean perch: Eastern Aleutian district | Pacific ocean perch: Central Aleutian district | Pacific ocean perch: Western Aleutian district | Flathead sole: BSAI | Rock sole: BSAI | Yellowfin sole: BSAI
TAC | 7,828 | 5,423 | 12,500 | 35,500 | 66,000 | 195,000
CDQ | 838 | 580 | 1,338 | 3,799 | 7,062 | 20,865
ICA | 100 | 60 | 10 | 3,000 | 6,000 | 4,000
BSAI trawl limited access | 689 | 478 | 223 |  |  | 32,996
Amendment 80 ¹ | 6,201 | 4,304 | 10,929 | 28,702 | 52,938 | 137,139
Note: Sector apportionments may not total precisely due to rounding.
¹ The 2025 allocations for Amendment 80 species between Amendment 80 cooperatives and the Amendment 80 limited access sector will not be known until eligible participants apply for participation in the program by November 1, 2024.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from fully harvesting their allocations and to improve the likelihood of achieving and maintaining, on a continuing basis, the optimum yield in the BSAI groundfish fisheries. NMFS, after consultation with the Council, may set the ABC reserve at or below the ABC surplus for each species, thus maintaining the TAC at or below ABC limits. An amount equal to 10.7 percent of the ABC reserves will be allocated as CDQ ABC reserves for flathead sole, rock sole, and yellowfin sole. Section 679.31(b)(4) establishes the annual allocations of CDQ ABC reserves among the CDQ groups. The Amendment 80 ABC reserves are the ABC reserves minus the CDQ ABC reserves. Section 679.91(i)(2) establishes Amendment 80 cooperatives ABC reserve to be the ratio of each cooperatives' quota share units and the total Amendment 80 quota share units, multiplied by the Amendment 80 ABC reserve for each respective species. Table 15 lists the 2024 and 2025 ABC surplus and ABC reserves for BSAI flathead sole, rock sole, and yellowfin sole. The ABC reserves for the CDQ groups are listed in table 22.

Table 15—Final 2024 and 2025 ABC Surplus, ABC Reserves, Community Development Quota (CDQ) ABC Reserves, and Amendment 80 ABC Reserves in the BSAI for Flathead Sole, Rock Sole, and Yellowfin Sole
[Amounts are in metric tons]
Sector | 2024 Flathead sole | 2024 Rock sole | 2024 Yellowfin sole | 2025 ¹ Flathead sole | 2025 ¹ Rock sole | 2025 ¹ Yellowfin sole
ABC | 67,289 | 122,091 | 265,913 | 68,203 | 122,535 | 276,917
TAC | 35,500 | 66,000 | 195,000 | 35,500 | 66,000 | 195,000
ABC surplus | 31,789 | 56,091 | 70,913 | 32,703 | 56,535 | 81,917
ABC reserve | 31,789 | 56,091 | 70,913 | 32,703 | 56,535 | 81,917
CDQ ABC reserve | 3,401 | 6,002 | 7,588 | 3,499 | 6,049 | 8,765
Amendment 80 ABC reserve | 28,388 | 50,089 | 63,325 | 29,204 | 50,486 | 73,152
¹ The 2025 allocations for Amendment 80 species between Amendment 80 cooperatives and the Amendment 80 limited access sector will not be known until eligible participants apply for participation in the program by November 1, 2024.

PSC Limits for Halibut, Salmon, Crab, and Herring

Section 679.21 (b), (e), (f), and (g), set forth the BSAI PSC limits. Section 679.21(b)(1) establishes three fixed halibut PSC limits totaling 1,770 mt, and assigns 315 mt of the halibut PSC limit as the PSQ reserve for use by the groundfish CDQ Program, 745 mt of the halibut PSC limit for the BSAI trawl limited access sector, and 710 mt of the halibut PSC limit for the BSAI non-trawl sector. An additional amount of BSAI halibut PSC limit for the Amendment 80 sector is determined annually based on the most recent halibut abundance estimates from the IPHC setline survey index and the NMFS AFSC Eastern Bering Sea shelf trawl survey index. In accordance with § 679.21(b)(1)(i), NMFS uses both halibut biomass estimates such that the value at the intercept of those survey indices from table 58 to 50 CFR part 679 is the Amendment 80 sector halibut PSC limit. The 2023 AFSC Eastern Bering Sea shelf trawl survey index estimate of halibut abundance is 170,238 mt and is above the threshold level of 150,000 mt. The IPHC setline survey index is 6,462 mt and is in the “low” abundance state. Pursuant to table 58 to 50 CFR part 679, the 2024 Amendment 80 sector halibut PSC limit is 1,396 mt. NMFS will publish the 2025 Amendment 80 sector halibut PSC limit in the 2025 and 2026 harvest specifications.

Section 679.21(b)(1)(iii)(A) and (B) require apportionment of the BSAI non-trawl halibut PSC limit into PSC allowances among six fishery categories in table 20, and § 679.21(b)(1)(ii)(A) and (B), (e)(3)(i)(B), and (e)(3)(iv) require apportionment of the trawl PSC limits in tables 17, 18, and 19 into PSC allowances among seven fishery categories. These apportionments into PSC allowances are based on the fishery categories' share of anticipated halibut PSC during the fishing year and the need to optimize the amount of total groundfish harvested under the halibut PSC limit for the non-trawl and trawl sectors.

Pursuant to Section 3.6 of the FMP, the Council recommends that certain specified non-trawl fisheries be exempt from the halibut PSC limit. NMFS concurs with this recommendation and exempts the pot gear fishery, the jig gear fishery, and the sablefish IFQ fixed gear fishery categories from halibut bycatch restrictions for the following reasons: (1) the pot gear fisheries have low halibut bycatch mortality; (2) NMFS estimates halibut mortality for the jig gear fleet to be negligible because of the small size of the fishery and the selectivity of the gear; and (3) the sablefish and halibut IFQ fisheries have low halibut bycatch mortality because the IFQ program requires that legal-size halibut be retained by vessels using fixed gear if a halibut IFQ permit holder or a hired master is aboard and is holding unused halibut IFQ for that vessel category and the IFQ regulatory area in which the vessel is operating (see § 679.7(f)(11)).

The 2023 total groundfish catch for the pot gear fishery in the BSAI was 43,527 mt, with an associated halibut bycatch mortality of 9 mt. The 2023 jig gear fishery harvested 22 mt total groundfish. Most vessels in the jig gear fleet are exempt from observer coverage requirements. As a result, observer data are not available on halibut bycatch in the jig gear fishery. As mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on: (1) past bycatch performance; (2) whether Chinook salmon bycatch incentive plan agreements (IPAs) are formed and approved by NMFS; and (3) whether NMFS determines it is a low Chinook salmon abundance year. NMFS will determine that it is a low Chinook salmon abundance year when abundance of Chinook salmon in western Alaska is less than or equal to 250,000 Chinook salmon. The State provides to NMFS an estimate of Chinook salmon abundance using the 3-System Index for western Alaska based on the Kuskokwim, Unalakleet, and Upper Yukon aggregate stock grouping.

If an AFA sector participates in an approved IPA and has not exceeded its performance standard under § 679.21(f)(6), and if it is not a low Chinook salmon abundance year, then NMFS will allocate a portion of the 60,000 Chinook salmon PSC limit to that sector as specified in § 679.21(f)(3)(iii)(A). If no IPA is approved, or if the sector has exceeded its performance standard under § 679.21(f)(6), and if it is not a low abundance year, then NMFS will allocate a portion of the 47,591 Chinook salmon PSC limit to that sector as specified in § 679.21(f)(3)(iii)(C). If an AFA sector participates in an approved IPA and has not exceeded its performance standard under § 679.21(f)(6), in a low abundance year, then NMFS will allocate a portion of the 45,000 Chinook salmon PSC limit to that sector as specified in § 679.21(f)(3)(iii)(B). If no IPA is approved, or if the sector has exceeded its performance standard under § 679.21(f)(6), and if in a low abundance year, then NMFS will allocate a portion of the 33,318 Chinook salmon PSC limit to that sector as specified in § 679.21(f)(3)(iii)(D).

NMFS has determined that 2023 was a low Chinook salmon abundance year, based on the State's estimate that Chinook salmon abundance in western Alaska is less than 250,000 Chinook salmon. In addition, all AFA sectors are participating in NMFS-approved IPAs, and no sector has exceeded the sector's annual Chinook salmon bycatch performance standard in any three of seven consecutive years. Therefore, in 2024, the Chinook salmon PSC limit is 45,000 Chinook salmon, allocated to each sector as specified in § 679.21(f)(3)(iii)(B). In 2024, the Chinook salmon bycatch performance standard under § 679.21(f)(6) is 33,318 Chinook salmon, allocated to each sector as specified in § 679.21(f)(3)(iii)(D). The AFA sector Chinook salmon PSC limits are also seasonally apportioned with 70 percent for the A season pollock fishery, and 30 percent for the B season pollock fishery (see §§ 679.21(f)(3)(i) and 679.23(e)(2)). NMFS publishes the approved IPAs, allocations, and reports at https://alaskafisheries.noaa.gov/sustainablefisheries/bycatch/default.htm.

Section 679.21(g)(2)(i) specifies 700 fish as the 2024 and 2025 Chinook salmon PSC limit for the AI pollock fishery. Section 679.21(g)(2)(ii) allocates 7.5 percent, or 53 Chinook salmon, as the AI PSQ reserve for the CDQ program, and allocates the remaining 647 Chinook salmon to the non-CDQ fisheries.

Section 679.21(f)(14)(i) specifies 42,000 fish as the 2024 and 2025 non-Chinook salmon PSC limit for vessels using trawl gear from August 15 through October 14 in the Catcher Vessel Operational Area (CVOA). Section 679.21(f)(14)(ii) allocates 10.7 percent, or 4,494 non-Chinook salmon, in the CVOA as the PSQ reserve for the CDQ program, and allocates the remaining 37,506 non-Chinook salmon in the CVOA to the non-CDQ fisheries. Section 679.21(f)(14)(iv) exempts from closures in the Chum Salmon Savings Area trawl vessels participating in directed fishing for pollock and operating under an IPA approved by NMFS.

PSC limits for crab and herring are specified annually based on abundance and spawning biomass.

Based on the most recent (2023) survey data, the red king crab mature female abundance is estimated at 11.054 million red king crabs, and the effective spawning biomass is estimated at 20.055 million lbs (9,320 mt). Based on the criteria set out at § 679.21(e)(1)(i), the calculated 2024 and 2025 PSC limit of red king crab in Zone 1 for trawl gear is 97,000 animals. This limit derives from the mature female abundance estimate above 8.4 million mature red king crab and an effective spawning biomass between 14.5 and 55 million lbs.

Section 679.21(e)(3)(ii)(B)(2) establishes criteria under which NMFS must specify, after consultation with the Council, an annual red king crab bycatch limit for the Red King Crab Savings Subarea (RKCSS) if the State has established a GHL fishery for red king crab in the Bristol Bay area in the previous year. The regulations limit the RKCSS red king crab bycatch limit to 25 percent of the red king crab PSC limit, based on the need to optimize the groundfish harvest relative to red king crab bycatch. In October 2023, the Council recommended, and NMFS approves, that the RKCSS red king crab bycatch limit for 2024 and 2025 be equal to 25 percent of the red king crab PSC limit.

Based on the most recent (2023) survey data from the NMFS annual bottom trawl survey, Tanner crab (Chionoecetes bairdi) abundance is estimated at 730 million animals. Pursuant to criteria set out at § 679.21(e)(1)(ii), the calculated 2024 and 2025 C. bairdi crab PSC limit for trawl gear is 980,000 animals in Zone 1, and 2,970,000 animals in Zone 2. The limit in Zone 1 is based on the total abundance of C. bairdi (estimated at 730 million animals), which is greater than 400 million animals. The limit in Zone 2 is based on the total abundance of C. bairdi (estimated at 730 million animals), which is greater than 400 million animals.

Pursuant to § 679.21(e)(1)(iii), the PSC limit for trawl gear for snow crab (C. opilio) is based on total abundance as indicated by the NMFS annual bottom trawl survey. The C. opilio crab PSC limit in the C. opilio bycatch limitation zone (COBLZ) is set at 0.1133 percent of the Bering Sea abundance index minus 150,000 crabs, unless a minimum or maximum PSC limit applies. Based on the most recent (2023) survey estimate of 1.142 billion animals, the calculated C. opilio crab PSC limit is 1,143,886 animals. Because 0.1133 percent multiplied by the total abundance is less than 4.5 million animals, the minimum PSC limit applies, and the PSC limit is 4.350 million animals.

Pursuant to § 679.21(e)(1)(v), the PSC limit of Pacific herring caught while conducting any trawl operation for BSAI groundfish is 1 percent of the annual eastern BS herring biomass. The best estimate of 2024 and 2025 herring biomass is 253,511 mt. This amount was developed by ADF&G based on biomass for spawning aggregations. Therefore, the herring PSC limit for 2024 and 2025 is 2,535 mt for all trawl gear as listed in tables 16 and 17.

Section 679.21(e)(3)(i)(A)(1) allocates 10.7 percent from each trawl gear PSC limit specified for crab as a PSQ reserve for use by the groundfish CDQ program. Section 679.21(e)(3)(i)(A) requires that crab PSQ reserves be subtracted from the total trawl gear crab PSC limits. The crab and halibut PSC limits apportioned to the Amendment 80 and BSAI trawl limited access sectors are listed in table 35 to 50 CFR part 679. The resulting 2024 and 2025 allocations of PSC limit to CDQ PSQ reserves, the Amendment 80 sector, and the BSAI trawl limited access sector are listed in table 16. Pursuant to §§ 679.21(b)(1)(i), 679.21(e)(3)(vi), and 679.91(d) through (f), crab and halibut trawl PSC limits assigned to the Amendment 80 sector are then further allocated to Amendment 80 cooperatives as cooperative quota. Crab and halibut PSC cooperative quota assigned to Amendment 80 cooperatives is not allocated to specific fishery categories.

In 2024, there are no vessels in the Amendment 80 limited access sector and there is a single Amendment 80 cooperative. The 2025 PSC allocations between Amendment 80 cooperatives and the Amendment 80 limited access sector will not be known until eligible participants apply for participation in the program by November 1, 2024.

The BSAI ITAC allocation of halibut and crab PSC limits to the PCTC Program is established in § 679.131(c) and (d). The halibut PSC apportioned to the trawl CV sector is 98 percent of the halibut PSC limit apportioned to the BSAI trawl limited access sector's Pacific cod fishery category, and the remaining 2 percent is apportioned to the AFA CP sector. The trawl CV sector apportionment is further allocated to the A and B seasons (95 percent) and the C season (5 percent). The allocation to the trawl CV sector for the A and B season is subject to reductions consistent with § 679.131(c)(1)(iii). The crab PSC apportioned to the trawl CV sector is 90.6 percent of the crab PSC limit apportioned to the BSAI trawl limited access sector's Pacific cod fishery category, and the remaining 9.4 percent is apportioned to the AFA CP sector. The trawl CV sector apportionment is further allocated to the A and B seasons (95 percent) and the C season (5 percent), and the A and B season limit is reduced by 35 percent to determine the overall PCTC Program crab PSC limit. The limits of halibut and crab PSC for the PCTC Program are listed in tables 18 and 19, and in table 11 for PSC allowances for PCTC Program cooperatives.

Sections 679.21(b)(2) and (e)(5) authorize NMFS, after consulting with the Council, to establish seasonal apportionments of halibut and crab PSC amounts for the BSAI trawl limited access and non-trawl sectors to maximize the ability of the fleet to harvest the available groundfish TAC and to minimize bycatch. The factors to be considered are: (1) seasonal distribution of prohibited species; (2) seasonal distribution of target groundfish species relative to prohibited species distribution; (3) PSC bycatch needs on a seasonal basis relevant to prohibited species biomass and expected catches of target groundfish species; (4) the expected variations in bycatch rates throughout the year; (5) the expected changes in directed groundfish fishing seasons; (6) the expected start of fishing effort; and (7) economic effects of establishing seasonal prohibited species apportionments on segments of the target groundfish industry. Based on this criteria, the Council recommended and NMFS approves the seasonal PSC apportionments in tables 18, 19, and 20 to maximize harvest among gear types, fisheries, and seasons while minimizing bycatch of PSC. PSC limits for PCTC Program cooperatives are listed in table 11. PSC allocations among the CDQ groups are listed in table 22.

Table 16—Final 2024 and 2025 Apportionment of Prohibited Species Catch Allowances to Non-Trawl Gear, the CDQ Program, Amendment 80, and the BSAI Trawl Limited Access Sectors
PSC species and area and zone ¹ | Total PSC | Non-trawl PSC | CDQ PSQ reserve ² | Trawl PSC remaining after CDQ PSQ | Amendment 80 sector 3 4 | BSAI trawl limited access sector | BSAI PSC limits not allocated to Amendment 80 ³
Halibut mortality (mt) BSAI | 3,166 | 710 | 315 | n/a | 1,396 | 745 | n/a
Herring (mt) BSAI | 2,535 | n/a | n/a | n/a | n/a | n/a | n/a
Red king crab (animals) Zone 1 | 97,000 | n/a | 10,379 | 86,621 | 43,293 | 26,489 | 16,839
C. opilio (animals) COBLZ | 4,350,000 | n/a | 465,450 | 3,884,550 | 1,909,256 | 1,248,494 | 726,799
C. bairdi crab (animals) Zone 1 | 980,000 | n/a | 104,860 | 875,140 | 368,521 | 411,228 | 95,390
C. bairdi crab (animals) Zone 2 | 2,970,000 | n/a | 317,790 | 2,652,210 | 627,778 | 1,241,500 | 782,932
¹ Refer to § 679.2 for definitions of areas and zones.
² The PSQ reserve for crab species is 10.7 percent of each crab PSC limit.
³ The BSAI halibut PSC limit for the Amendment 80 sector is determined annually based on the most recent halibut abundance estimates from the IPHC setline survey index and the NMFS AFSC Eastern Bering Sea shelf trawl survey index (§ 679.21(b)(1)(i)). The Amendment 80 Program reduced apportionment of the trawl PSC limits for crab below the total PSC limit. These reductions are not apportioned to other gear types or sectors (table 35 to part 679).
⁴ The Pacific Cod Trawl Cooperative (PCTC) Program reduced the Pacific cod PCTC Program PSC limit for halibut by 12.5 percent in 2024 and 25 percent in 2025 and each year after (§ 679.131(c)(1)(iii)(A and B)). The PCTC Program reduced the Pacific cod PCTC Program PSC limit for crab by 35 percent each year (679.131(d)(1)(iii)). The PSC limits apply to PCTC Program trawl CVs in the A and B seasons.

Table 17—Final 2024 and 2025 Herring and Red King Crab Savings Subarea Prohibited Species Catch Allowances for All Trawl Sectors
Fishery categories | Herring (mt) BSAI | Red king crab (animals) Zone 1
Yellowfin sole | 146 | n/a
Rock sole/flathead sole/Alaska plaice/other flatfish ¹ | 74 | n/a
Greenland turbot/arrowtooth flounder/Kamchatka flounder/sablefish | 8 | n/a
Rockfish | 8 | n/a
Pacific cod | 13 | n/a
Midwater trawl pollock | 2,256 | n/a
Pollock/Atka mackerel/other species 2 3 | 30 | n/a
Red king crab savings subarea non-pelagic trawl gear ⁴ | n/a | 24,250
Total trawl PSC | 2,535 | 97,000
Note: Species apportionments may not total precisely due to rounding.
¹ “Other flatfish” for PSC monitoring includes all flatfish species, except for halibut (a prohibited species), Alaska plaice, arrowtooth flounder, flathead sole, Greenland turbot, Kamchatka flounder, rock sole, and yellowfin sole.
² Pollock other than midwater trawl pollock, Atka mackerel, and “other species” fishery category.
³ “Other species” for PSC monitoring includes skates, sharks, and octopuses.
⁴ In December 2024, the Council recommended, and NMFS approves, that the red king crab bycatch limit for non-pelagic trawl fisheries within the RKCSS be limited to 25 percent of the red king crab PSC allowance (see § 679.21(e)(3)(ii)(B)(2)).

Table 18—Final 2024 Prohibited Species Bycatch Allowances for the BSAI Trawl Limited Access Sectors and Pacific Cod Trawl Cooperative Program
BSAI trawl limited access sector fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 250 | 23,337 | 1,192,179 | 346,228 | 1,185,500
Rock sole/flathead sole/other flatfish ² |  |  |  |  |
Greenland turbot/arrowtooth flounder/Kamchatka flounder/sablefish |  |  |  |  |
Rockfish, April 15-December 31 | 5 |  | 1,006 |  | 1,000
Total Pacific cod ³ | 315 | 2,955 | 50,281 | 60,000 | 50,000
AFA CP Pacific cod | 6 | 278 | 4,726 | 5,640 | 4,700
PCTC Program Pacific cod, A and B season | 257 | 1,653 | 28,130 | 33,567 | 27,973
Trawl CV Pacific cod, C season | 15 | 134 | 2,278 | 2,718 | 2,265
PCTC Program unallocated reduction | 37 | 890 | 15,147 | 18,075 | 15,062
Pollock/Atka mackerel/other species ⁴ | 175 | 197 | 5,028 | 5,000 | 5,000
Total BSAI trawl limited access sector PSC | 745 | 26,489 | 1,248,494 | 411,228 | 1,241,500
Note: Species apportionments may not total precisely due to rounding.
¹ Refer to § 679.2 for definitions of areas and zones.
² “Other flatfish” for PSC monitoring includes all flatfish species, except for halibut (a prohibited species), Alaska plaice, arrowtooth flounder, flathead sole, Greenland turbot, Kamchatka flounder, rock sole, and yellowfin sole.
³ Amendment 122 established the Pacific Cod Trawl Cooperative (PCTC) Program that further apportioned the BSAI trawl limited access sector Pacific cod PSC limits for halibut and crab between AFA CPs, PCTC A and B-season, and open access C-season (§ 679.131(c) and (d)). In 2024, NMFS will apply a 12.5 percent reduction to the A and B season trawl CV sector halibut PSC apportionment after the Council recommends and NMFS approves the BSAI trawl limited access sector's PSC limit apportionments to fishery categories (§ 679.131(c)(1)(iii)). In 2025 and every year thereafter, NMFS will apply a 25 percent reduction to the A and B season trawl CV sector halibut PSC apportionment. The crab PSC limits are reduced for the A and B season trawl CV sector PSC limit by 35 percent each year (§ 679.131(d)(1)(iii)). Any amount of the PCTC Program PSC limit remaining after the B season may be reapportioned to the trawl CV open access fishery in the C season. Because the annual PSC limits for the PCTC Program is not a fixed amount established in regulation and, instead, is determined annually through the harvest specification process, NMFS must apply the reduction to the A and B season apportionment of the trawl CV sector apportionment to implement the overall PSC reductions under the PCTC Program.
⁴ “Other species” for PSC monitoring includes skates, sharks, and octopuses.

Table 19—Final 2025 Prohibited Species Bycatch Allowances for the BSAI Trawl Limited Access Sectors and Pacific Cod Trawl Cooperative Program
BSAI trawl limited access sector fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 250 | 23,337 | 1,192,179 | 346,228 | 1,185,500
Rock sole/flathead sole/other flatfish ² |  |  |  |  |
Greenland turbot/arrowtooth flounder/Kamchatka flounder/sablefish |  |  |  |  |
Rockfish April 15-December 31 | 5 |  | 1,006 |  | 1,000
Total Pacific cod ³ | 315 | 2,955 | 50,281 | 60,000 | 50,000
AFA CP Pacific cod | 6 | 278 | 4,726 | 5,640 | 4,700
PCTC Program Pacific cod, January 20-June 10 | 220 | 1,653 | 28,130 | 33,567 | 27,973
Trawl CV Pacific cod, June 10-November 1 | 16 | 134 | 2,278 | 2,718 | 2,265
PCTC Program unallocated reduction | 73 | 890 | 15,147 | 18,075 | 15,062
Pollock/Atka mackerel/other species ⁴ | 175 | 197 | 5,028 | 5,000 | 5,000
Total BSAI trawl limited access sector PSC | 745 | 26,489 | 1,248,494 | 411,228 | 1,241,500
Note: Species apportionments may not total precisely due to rounding.
¹ Refer to § 679.2 for definitions of areas and zones.
² “Other flatfish” for PSC monitoring includes all flatfish species, except for halibut (a prohibited species), Alaska plaice, arrowtooth flounder, flathead sole, Greenland turbot, Kamchatka flounder, rock sole, and yellowfin sole.
³ Amendment 122 established the Pacific Cod Trawl Cooperative (PCTC) Program that further apportioned the BSAI trawl limited access sector Pacific cod PSC limits for halibut and crab between AFA CPs, PCTC A and B-season, and open access C-season (§ 679.131(c) and (d)). In 2025 and every year thereafter, NMFS will apply a 25 percent reduction to the A and B season trawl CV sector halibut PSC apportionment after the Council recommends and NMFS approves the BSAI trawl limited access sector's PSC limit apportionments to fishery categories (§ 679.131(c)(1)(iii)). The crab PSC limits are reduced for the A and B season trawl CV sector PSC limit by 35 percent each year (§ 679.131(d)(1)(iii)). Any amount of the PCTC Program PSC limit remaining after the B season may be reapportioned to the trawl CV open access fishery in the C season. Because the annual PSC limits for the PCTC Program is not a fixed amount established in regulation and, instead, is determined annually through the harvest specification process, NMFS must apply the reduction to the A and B season apportionment of the trawl CV sector apportionment to implement the overall PSC reductions under the PCTC Program.
⁴ “Other species” for PSC monitoring includes skates, sharks, and octopuses.

Table 20—Final 2024 and 2025 Halibut Prohibited Species Bycatch Allowances for Non-Trawl Fisheries
Halibut mortality (mt) BSAI: Non-trawl fisheries | Halibut mortality (mt) BSAI: Seasons | Halibut mortality (mt) BSAI: Catcher processor | Halibut mortality (mt) BSAI: Catcher vessel | Halibut mortality (mt) BSAI: All non-trawl
Pacific cod | Total Pacific cod | 648 | 13 | 661
| January 1-June 10 | 388 | 9 | n/a
| June 10-August 15 | 162 | 2 | n/a
| August 15-December 31 | 98 | 2 | n/a
Non-Pacific cod non-trawl-Total | May 1-December 31 | n/a | n/a | 49
Groundfish pot and jig | n/a | n/a | n/a | Exempt
Sablefish hook-and-line | n/a | n/a | n/a | Exempt
Total for all non-trawl PSC | n/a | n/a | n/a | 710
Note: Seasonal or sector allowances may not total precisely due to rounding.

Estimates of Halibut Biomass and Stock Condition

The IPHC annually assesses the abundance and potential yield of the Pacific halibut stock using all available data from the commercial and sport fisheries, other removals, and scientific surveys. Additional information on the Pacific halibut stock assessment may be found in the IPHC's 2023 Pacific halibut stock assessment (December 2023), available on the IPHC website at https://www.iphc.int. The IPHC considered the 2023 Pacific halibut stock assessment at its January 2024 annual meeting when it set the 2024 commercial halibut fishery catch limits.

Halibut Discard Mortality Rates (DMRs)

To monitor halibut bycatch mortality allowances and apportionments, the Regional Administrator uses observed halibut incidental catch rates, DMRs, and estimates of groundfish catch to project when a fishery's halibut bycatch mortality allowance or seasonal apportionment is reached. Halibut incidental catch rates are based on observed estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual BSAI stock assessment process. The DMR methodology and findings are included as an appendix to the annual BSAI groundfish SAFE report.

In 2016, the DMR estimation methodology underwent revisions per the Council's directive. An interagency halibut working group (IPHC, Council, and NMFS staff) developed improved estimation methods that have undergone review by the Plan Team, SSC, and the Council. A summary of the revised methodology is included in the BSAI proposed 2017 and 2018 harvest specifications (81 FR 87863, December 6, 2016), and the comprehensive discussion of the working group's statistical methodology is available from the Council (see ADDRESSES). The DMR working group's revised methodology is intended to improve estimation accuracy, transparency, and transferability used for calculating DMRs. The working group will continue to consider improvements to the methodology used to calculate halibut mortality, including potential changes to the reference period (the period of data used for calculating the DMRs). The methodology continues to ensure that NMFS is using DMRs that accurately reflect halibut mortality, which will inform the sectors of their estimated halibut mortality and allow sectors to respond with methods that could reduce mortality and, eventually, the DMR for that sector.

At the December 2023 meeting, the SSC, AP, and the Council concurred with the revised DMR estimation methodology, and NMFS adopts for 2024 and 2025 the DMRs calculated under the revised methodology, which uses an updated 2-year reference period, except pot gear uses an updated 4-year reference period. The final 2024 and 2025 DMRs in this rule are unchanged from the DMRs in the proposed 2024 and 2025 harvest specifications (88 FR 84278, December 5, 2023). Table 21 lists these final 2024 and 2025 DMRs.

Table 21—2024 and 2025 Pacific Halibut Discard Mortality Rates (DMR) for the BSAI
Gear | Sector | Halibut discard mortality rate (percent)
Pelagic trawl | All | 100
Non-pelagic trawl | Mothership and catcher/processor | 85
Non-pelagic trawl | Catcher vessel | 63
Hook-and-line | Catcher/processor | 7
Hook-and-line | Catcher vessel | 7
Pot | All | 26

Community Development Quota Group Quotas

In 2006, Public Law 109-241 amended section 305(i)(1) of the Magnuson-Stevens Act (16 U.S.C. 1855(i)). This law specifies the allocation of CDQ groundfish and PSC amounts among the six CDQ groups. The six groups are the Aleutian Pribilof Island Community Development Association (APICDA), Bristol Bay Economic Development Corporation (BBEDC), Central Bering Sea Fisherman's Association (CBSFA), Coastal Villages Regional Fund (CVRF), Norton Sound Economic Development Corporation (NSEDC), and Yukon Delta Fisheries Development Association (YDFDA). NMFS published the CDQ and CDQ PSQ percentages on August 31, 2006 (71 FR 51804, August 31, 2006). Those percentages applied to the CDQ amounts in these harvest specifications are shown in table 22.

Table 22—2024 CDQ Program Quota Categories, Target CDQ Reserves, Prohibited Species Quota (PSQ) Reserves, and CDQ Group Quotas
Species or species group | APICDA | BBEDC | CBSFA | CVRF | NSEDC | YDFDA | Total
Groundfish CDQ Species | CDQ Group Quotas
Groundfish units are in metric tons
BS Pollock A season | 8,190 | 12,285 | 2,925 | 14,040 | 12,870 | 8,190 | 58,500
BS Pollock B season | 10,010 | 15,015 | 3,575 | 17,160 | 15,730 | 10,010 | 71,500
BS Pollock Total | 18,200 | 27,300 | 6,500 | 31,200 | 28,600 | 18,200 | 130,000
AI Pollock | 266 | 399 | 95 | 456 | 418 | 266 | 1,900
BS FG Sablefish | 120 | 160 | 128 |  | 144 | 248 | 800
AI FG Sablefish | 177 | 241 | 38 | 342 | 291 | 177 | 1,266
BS Sablefish | 63 | 66 | 27 | 39 | 39 | 66 | 300
AI Sablefish | 41 | 32 | 13 | 21 | 19 | 33 | 158
BS Pacific cod | 2,371 | 3,320 | 1,423 | 2,846 | 2,846 | 3,004 | 15,810
AI Pacific cod | 130 | 182 | 78 | 156 | 156 | 164 | 865
WAI Atka Mackerel | 770 | 385 | 205 | 385 | 359 | 462 | 2,565
CAI Atka Mackerel | 538 | 269 | 143 | 269 | 251 | 323 | 1,793
EAI/BS Atka Mackerel | 1,036 | 518 | 276 | 518 | 483 | 621 | 3,452
Yellowfin Sole | 5,842 | 5,008 | 1,669 | 1,252 | 1,461 | 5,634 | 20,865
Yellowfin Sole ABC reserves | 2,125 | 1,821 | 607 | 455 | 531 | 2,049 | 7,588
Rock Sole | 1,695 | 1,624 | 565 | 777 | 777 | 1,624 | 7,062
Rock Sole ABC reserves | 1,440 | 1,380 | 480 | 660 | 660 | 1,380 | 6,002
BS Greenland Turbot | 46 | 58 | 23 | 49 | 55 | 58 | 288
Arrowtooth Flounder | 330 | 330 | 135 | 195 | 180 | 330 | 1,498
Flathead Sole | 760 | 798 | 342 | 570 | 570 | 760 | 3,799
Flathead Sole ABC reserves | 680 | 714 | 306 | 510 | 510 | 680 | 3,401
WAI Pacific Ocean Perch | 401 | 201 | 107 | 201 | 187 | 241 | 1,338
CAI Pacific Ocean Perch | 177 | 89 | 47 | 89 | 83 | 106 | 591
EAI Pacific Ocean Perch | 256 | 128 | 68 | 128 | 119 | 153 | 853
PSQ
Halibut PSQ is in metric tons. Crab and salmon PSQ are in number of animals
Zone 1 Red King Crab | 2,491 | 2,180 | 830 | 1,245 | 1,245 | 2,387 | 10,379
Zone 1 Bairdi Tanner Crab | 27,264 | 25,166 | 8,389 | 8,389 | 8,389 | 27,264 | 104,860
Zone 2 Bairdi Tanner Crab | 76,270 | 73,092 | 25,423 | 34,957 | 31,779 | 76,270 | 317,790
COBLZ Opilio Tanner Crab | 116,363 | 111,708 | 37,236 | 46,545 | 37,236 | 116,363 | 465,450
Pacific Halibut | 69 | 69 | 28 | 38 | 38 | 72 | 315
BS Chinook Salmon A season | 547 | 820 | 195 | 937 | 859 | 547 | 3,906
BS Chinook Salmon B season | 139 | 208 | 50 | 238 | 218 | 139 | 990
BS Chinook Salmon total | 685 | 1,028 | 245 | 1,175 | 1,077 | 685 | 4,896
AI Chinook Salmon | 7 | 11 | 3 | 13 | 12 | 7 | 53
Non-Chinook Salmon | 629 | 944 | 225 | 1,079 | 989 | 629 | 4,494

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea, regulatory area, or district (see § 679.20(d)(1)(iii)). Similarly, pursuant to § 679.21(b)(4) and (e)(7), if the Regional Administrator determines that a fishery category's bycatch allowance of halibut, red king crab, C. bairdi crab, or C. opilio crab for a specified area has been reached, the Regional Administrator will prohibit directed fishing for each species or species group in that fishery category in the area specified by regulation for the remainder of the season or fishing year.

Based on historical catch patterns and anticipated fishing activity, the Regional Administrator has determined that the groundfish allocation amounts in table 23 will be necessary as incidental catch to support other anticipated groundfish fisheries for the 2024 and 2025 fishing years. Consequently, in accordance with § 679.20(d)(1)(i), the Regional Administrator establishes the DFA for the species and species groups in table 23 as zero mt. Therefore, in accordance with § 679.20(d)(1)(iii), NMFS is prohibiting directed fishing for these sectors and species or species groups in the specified areas effective at 1200 hours, A.l.t., March 11, 2024, through 2400 hours, A.l.t., December 31, 2025. Also, for the BSAI trawl limited access sector, bycatch allowances of halibut, red king crab, C. bairdi crab, and C. opilio crab listed in table 23 are insufficient to support directed fisheries for the species and species groups listed in table 23. Therefore, in accordance with § 679.21(b)(4)(i) and (e)(7), NMFS is prohibiting directed fishing for these sectors, species, and fishery categories in the specified areas effective at 1200 hours, A.l.t., March 11, 2024, through 2400 hours, A.l.t., December 31, 2025.

Table 23—2024 and 2025 Directed Fishing Closures ¹
[Groundfish and halibut amounts are in metric tons. Crab amounts are in number of animals.]
Area | Sector | Species | 2024 Incidental catch allowance | 2025 Incidental catch allowance
Bogoslof District | All | Pollock | 250 | 250
Aleutian Islands subarea | All | Greenland Turbot | 426 | 366
Aleutian Islands subarea | All | ICA pollock | 3,420 | 3,420
|  | “Other rockfish” ² | 380 | 380
Aleutian Islands subarea | Trawl non-CDQ | Sablefish | 1,794 | 1,794
Eastern Aleutian District/Bering Sea | Non-amendment 80, CDQ, and BSAI trawl limited access | ICA Atka mackerel | 800 | 800
Eastern Aleutian District/Bering Sea | All | Blackspotted/Rougheye rockfish | 330 | 350
Eastern Aleutian District | Non-amendment 80, CDQ, and BSAI trawl limited access | ICA Pacific ocean perch | 100 | 100
Central Aleutian District | Non-amendment 80, CDQ, and BSAI trawl limited access | ICA Atka mackerel | 75 | 75
|  | ICA Pacific ocean perch | 60 | 60
Western Aleutian District | Non-amendment 80, CDQ and BSAI trawl limited access | ICA Atka mackerel | 20 | 20
|  | ICA Pacific ocean perch | 10 | 10
Western and Central Aleutian Districts | All | Blackspotted/Rougheye rockfish | 181 | 195
Bering Sea subarea | Trawl non-CDQ | Sablefish | 3,398 | 4,038
Bering Sea subarea | All | Pacific ocean perch “Other rockfish” ² ICA pollock | 9,891 748 50,000 | 9,716 748 50,000
Bering Sea and Aleutian Islands |  | Shortraker rockfish Skates Sharks Octopuses | 451 25,941 340 340 | 451 25,807 340 340
| Hook-and-line and pot gear | ICA Pacific cod | 500 | 500
| All | ICA flathead sole ICA rock sole | 3,000 6,000 | 3,000 6,000
| All | ICA yellowfin sole | 4,000 | 4,000
| BSAI trawl limited access | Rock sole/flathead sole/other flatfish—halibut mortality, red king crab Zone 1, C. opilio COBLZ, C. bairdi Zone 1 and 2 |  |
|  | Turbot/arrowtooth/Kamchatka/sablefish—halibut mortality, red king crab Zone 1, C. opilio COBLZ, C. bairdi Zone 1 and 2 |  |
|  | Rockfish—red king crab Zone 1 |  |
¹ Maximum retainable amounts may be found in table 11 to 50 CFR part 679.
² “Other rockfish” includes all Sebastes and Sebastolobus species except for dark rockfish, Pacific ocean perch, northern rockfish, blackspotted/rougheye rockfish, and shortraker rockfish.

Closures implemented under the final 2023 and 2024 BSAI harvest specifications for groundfish (88 FR 14926, March 10, 2023) remain effective under authority of these final 2024 and 2025 harvest specifications and until the date specified in those closure notifications. Closures are posted at the following website under the Alaska filter for Management Area: https://www.fisheries.noaa.gov/rules-and-announcements/bulletins. While these closures are in effect, the maximum retainable amounts at § 679.20(e) and (f) apply at any time during a fishing trip. These closures to directed fishing are in addition to closures and prohibitions found at 50 CFR part 679.

Listed AFA Catcher/Processor Sideboard Limits

Pursuant to § 679.64(a), the Regional Administrator is responsible for restricting the ability of listed AFA CPs to engage in directed fishing for groundfish species other than pollock to protect participants in other groundfish fisheries from adverse effects resulting from the AFA fishery and from fishery cooperatives in the directed pollock fishery. These restrictions are set out as sideboard limits on catch. On February 8, 2019, NMFS published a final rule (84 FR 2723) that implemented regulations to prohibit non-exempt AFA CPs from directed fishing for all groundfish species or species groups subject to sideboard limits (see § 679.20(d)(1)(iv)(D) and table 54 to 50 CFR part 679). Section 679.64(a)(1)(v) exempts AFA CPs from a yellowfin sole sideboard limit because the final 2024 and 2025 aggregate ITAC of yellowfin sole assigned to the Amendment 80 sector and BSAI trawl limited access sector is greater than 125,000 mt.

Section 679.64(a)(2) and tables 40 and 41 to 50 CFR part 679 establish a formula for calculating PSC sideboard limits for halibut and crab caught by listed AFA CPs. The basis for these sideboard limits is described in detail in the final rules implementing the major provisions of the AFA (67 FR 79692, December 30, 2002) and Amendment 80 (72 FR 52668, September 14, 2007). PSC species listed in table 24 that are caught by listed AFA CPs participating in any groundfish fishery other than pollock will accrue against the final 2024 and 2025 PSC sideboard limits for the listed AFA CPs. Section 679.21(b)(4)(iii), (e)(3)(v), and (e)(7) authorizes NMFS to close directed fishing for groundfish other than pollock for listed AFA CPs once a final 2024 or 2025 PSC sideboard limit listed in table 24 is reached. Pursuant to § 679.21(b)(1)(ii)(C) and (e)(3)(ii)(C), halibut or crab PSC by listed AFA CPs while fishing for pollock will accrue against the PSC allowances annually specified for the pollock/Atka mackerel/“other species” fishery categories, according to § 679.21(b)(1)(ii)(B) and (e)(3)(iv).

Table 24—Final 2024 and 2025 BSAI AFA Listed Catcher/Processor Prohibited Species Sideboard Limits
PSC species and area ¹ | Ratio of PSC catch to total PSC | 2024 and 2025 PSC available to trawl vessels after subtraction of PSQ ² | 2024 and 2025 AFA catcher/ processor sideboard limit ²
Halibut mortality BSAI | n/a | n/a | 286
Red king crab Zone 1 | 0.0070 | 86,621 | 606
C. opilio (COBLZ) | 0.1530 | 3,884,550 | 594,336
C. bairdi Zone 1 | 0.1400 | 875,140 | 122,520
C. bairdi Zone 2 | 0.0500 | 2,652,210 | 132,611
¹ Refer to § 679.2 for definitions of areas.
² Halibut amounts are in metric tons of halibut mortality. Crab amounts are in numbers of animals.

AFA Catcher Vessel Sideboard Limits

Pursuant to § 679.64(b), the Regional Administrator is responsible for restricting the ability of AFA CVs to engage in directed fishing for groundfish species other than pollock to protect participants in other groundfish fisheries from adverse effects resulting from the AFA fishery and from fishery cooperatives in the pollock directed fishery. Section 679.64(b)(3) and (b)(4) and tables 40 and 41 to 50 CFR part 679 establish formulas for setting AFA CV groundfish and halibut and crab PSC sideboard limits for the BSAI. The basis for these sideboard limits is described in detail in the final rules implementing the major provisions of the AFA (67 FR 79692, December 30, 2002), Amendment 80 (72 FR 52668, September 14, 2007), and Amendment 122 (88 FR 53704, August 8, 2023). Section 679.64(b)(6) exempts AFA CVs from a yellowfin sole sideboard limit because the final 2024 and 2025 aggregate ITAC of yellowfin sole assigned to the Amendment 80 sector and BSAI trawl limited access sector is greater than 125,000 mt.

On February 8, 2019, NMFS published a final rule (84 FR 2723) that implemented regulations to prohibit non-exempt AFA CVs from directed fishing for a majority of the groundfish species or species groups subject to sideboard limits (see § 679.20(d)(1)(iv)(D) and table 55 to 50 CFR part 679). The only remaining sideboard limit for non-exempt AFA CVs is for Pacific cod. Pursuant to Amendment 122 to the FMP, the Pacific cod sideboard limit is no longer necessary in the A and B seasons because directed fishing in the BSAI for Pacific cod by trawl CVs is now managed under the PCTC Program, and accordingly the sideboard limit is in effect in the C season only (§ 679.64(b)(3)(ii)). Table 25 lists the final 2024 and 2025 AFA CV groundfish sideboard limits.

Table 25—Final 2024 and 2025 BSAI Pacific Cod Sideboard Limits for American Fisheries Act Catcher Vessels (CVs)
[Amounts are in metric tons]
Fishery by area/gear/season | Ratio of 1997 AFA CV catch to 1997 TAC | 2024 ITAC for C season | 2024 AFA catcher vessel sideboard limit | 2025 ITAC for C season | 2025 AFA catcher vessel sideboard limit
Pacific cod BSAI | n/a | n/a | n/a | n/a | n/a
Trawl gear CV | n/a | n/a | n/a | n/a | n/a
Jun 10-Nov 1 | 0.8609 | 4,613 | 3,971 | 4,168 | 3,588
Note: Section 679.64(b)(6) exempts AFA catcher vessels from a yellowfin sole sideboard limit because the final 2024 and 2025 aggregate ITAC of yellowfin sole assigned to the Amendment 80 sector and BSAI trawl limited access sector is greater than 125,000 mt.

Halibut and crab PSC limits listed in table 26 that are caught by AFA CVs participating in any groundfish fishery other than pollock will accrue against the 2024 and 2025 PSC sideboard limits for the AFA CVs. Section 679.21 (b)(4)(iii), (e)(3)(v), and (e)(7) authorizes NMFS to close directed fishing for groundfish other than pollock for AFA CVs once a final 2024 or 2025 PSC sideboard limit listed in table 26 is reached. Pursuant to § 679.21(b)(1)(ii)(C) and (e)(3)(ii)(C), halibut or crab PSC by AFA CVs while fishing for pollock will accrue against the PSC allowances annually specified for the pollock/Atka mackerel/“other species” fishery categories under § 679.21(b)(1)(ii)(B) and (e)(3)(iv).

Table 26—Final 2024 and 2025 American Fisheries Act Catcher Vessel Prohibited Species Catch Sideboard Limits for the BSAI ¹
PSC species and area ¹ | Target fishery category ² | AFA catcher vessel PSC sideboard limit ratio | 2024 and 2025 PSC limit after subtraction of PSQ reserves ³ | 2024 and 2025 AFA catcher vessel PSC sideboard limit ³
Halibut | Pacific cod trawl | n/a | n/a | n/a
| Pacific cod hook-and-line or pot | n/a | n/a | 2
| Yellowfin sole total | n/a | n/a | 101
| Rock sole/flathead sole/Alaska plaice/other flatfish ⁴ | n/a | n/a | 228
| Greenland turbot/arrowtooth/Kamchatka/sablefish | n/a | n/a |
| Rockfish | n/a | n/a | 2
| Pollock/Atka mackerel/other species ⁵ | n/a | n/a | 5
Red king crab Zone 1 | n/a | 0.2990 | 86,621 | 25,900
C. opilio COBLZ | n/a | 0.1680 | 3,884,550 | 652,604
C. bairdi Zone 1 | n/a | 0.3300 | 875,140 | 288,796
C. bairdi Zone 2 | n/a | 0.1860 | 2,652,210 | 493,311
¹ Refer to § 679.2 for definitions of areas.
² Target trawl fishery categories are defined at §§ 679.21(b)(1)(ii)(B) and (e)(3)(iv).
³ Halibut amounts are in metric tons of halibut mortality. Crab amounts are in numbers of animals.
⁴ “Other flatfish” for PSC monitoring includes all flatfish species, except for halibut (a prohibited species), Alaska plaice, arrowtooth flounder, flathead sole, Greenland turbot, Kamchatka flounder, rock sole, and yellowfin sole.
⁵ “Other species” for PSC monitoring includes skates, sharks, and octopuses.

Response to Comments

NMFS received 5 letters raising 17 distinct comments during the public comment period for the proposed BSAI groundfish harvest specifications (88 FR 84278, December 5, 2023). NMFS's responses are below.

Comment 1: The BSAI harvest specifications do not consider the impact of offshore wind on the marine environment.

Response: This is outside of the scope of the harvest specifications. The final rule implementing the harvest specifications sets the OFL, ABC, and TAC for target species in the BSAI, but does not regulate or authorize offshore wind. There is no current or planned offshore wind project in Alaska State waters or EEZ waters off of Alaska.

Comment 2: Salmon are important for the cultural well-being of Alaska native tribes. Climate change is negatively affecting salmon and additive pressure from the pollock fishery is exacerbating their declines. Maintaining the status quo TAC for pollock harvest will result in continued bycatch and impacts to salmon and halibut as the pollock industry catches more individual salmon and halibut as bycatch than directed and subsistence fishermen of Alaska are allocated for their survival and livelihoods.

Response: NMFS recognizes that salmon are paramount to the cultural well-being for indigenous peoples of Alaska. NMFS also recognizes that climate change is affecting the survival of western Alaska Chinook and chum salmon in their freshwater and marine life stages.

The annual TAC setting process is a robust, expansive process that involves significant scientific input and includes consideration of current environmental and ecosystem factors (e.g., climate change) and other marine resources (e.g., salmon and halibut). Scientists from the AFSC prepare the assessment using sophisticated statistical analyses of fish populations and draft the written assessment for a species or species group, which for eastern BS (EBS) pollock is a full assessment updated annually and for AI pollock is a full assessment updated biennially. The assessments for the BSAI are informed by the most recent survey and harvest data available, including multiple surveys in the EBS scheduled annually and in the AI every other year. The stock assessment then undergoes rigorous review by the scientists and resource managers on the Plan Team and SSC.

During this annual TAC setting process, the Plan Team, SSC, AP, and Council review several sources comprising the best scientific information available—the ESRs, Ecosystem and Socioeconomic Profiles (ESP), stock assessments, and Plan Team report—and use all these materials as reference in their OFL, ABC, and TAC recommendations to NMFS. NMFS reviews the same information for its annual decision to implement the OFL, ABC, and TAC for BSAI groundfish. Updates on salmon abundance estimates, commercial salmon catch, and the physical environment are included in the ESR and ESP. For an overview of the ESR and ESP, refer to the response to Comment 3.

The stock assessment author and Plan Team make a recommendation for OFL and ABC for each species and species group, and the SSC may concur with this recommendation or make a different recommendation. Ultimately, the SSC recommends the OFL and ABC (i.e., the biological reference points) that inform the setting of the TAC (the harvest target/limit) for each species and species group since TAC cannot exceed ABC (see Section 3.2.3.4.1 of the FMP and 50 CFR 600.310(g)(4)). This ensures that the TAC for each species and species group does not exceed the scientific recommendations for ABC and OFL.

OFL and ABC are calculated using prescribed methods set forth in the FMP. The FMP specifies a series of six tiers to define OFL and ABC amounts based on the level of reliable information available to fishery scientists. Tier 1 represents the highest level of information quality available, while Tier 6 represents the lowest. The methods for calculating OFL and ABC (including the ABC control rule) become more precautionary depending on the tier and stock status: for example, with less reliable information the larger the buffer (reduction) between OFL and ABC, and as stock status declines the OFL and ABC are reduced.

The specification of ABC is informed by the ecosystem, environmental, and socioeconomic factors presented in the ESRs and in the stock assessment, specifically the stock-specific risk table prepared for each stock as well as an additional ecosystem considerations section prepared for full/operational assessments like pollock. For EBS pollock, for example, the ecosystem considerations section of the stock assessment analyzes the fishery's effects on the ecosystem, such as bycatch of non-target species like salmon. The 2023 ESRs also provide information on the status of salmon in the BS ecosystem and AI ecosystem, including updated information on the abundance of salmon, fish condition, the run size of Bristol Bay sockeye salmon, the Yukon and Kuskokwim chum runs and subsistence harvest, abundance and role of eastern Kamchatka pink salmon in the Aleutian Islands, and trends in directed commercial catch of salmon. The 2023 EBS ESR also included an overview of foraging and energetics for Pacific halibut. The specification of the pollock TACs is therefore based on the best scientific information available on the status of the pollock stock and accounts for ecosystem, environmental, and socioeconomic factors, including bycatch of non-target species like salmon. The 2023 SAFE report chapter for EBS pollock is available at https://www.npfmc.org/wp-content/PDFdocuments/SAFE/2023/EBSpollock.pdf.

As described above, NMFS and the Council considered the status of Chinook and chum salmon in the harvest specifications process. In addition, the harvest specifications announce Chinook bycatch limits based on promulgated regulations implementing Amendments 91 and 110 to the FMP. NMFS and the Council have previously taken comprehensive action through Amendments 91 and 110 to the FMP and implementing regulations to reduce salmon bycatch in the pollock trawl fishery because of the potential for negative impacts on salmon stocks. Existing measures have reduced salmon bycatch in the pollock fishery compared with what they would have been without the measures. Regulations set limits on how many Chinook salmon can be caught in a year in the Bering Sea pollock fishery, and those regulations require that NMFS announce the applicable Chinook salmon limits in the harvest specifications (see § 679.21(f)). Pursuant to § 679.21(f), NMFS annually allocates portions of either 33,318, 45,000, 47,591, or 60,000 Chinook salmon PSC limits among the AFA sectors, depending on: (1) past bycatch performance; (2) whether Chinook salmon bycatch incentive plan agreements (IPAs) are formed and approved by NMFS; and (3) whether NMFS determines it is a low Chinook salmon abundance year (see § 679.21(f)). NMFS will determine that it is a low Chinook salmon abundance year when abundance of Chinook salmon in western Alaska is less than or equal to 250,000 Chinook salmon, based on the estimate provided by the State. The State provides NMFS with an estimate of Chinook salmon abundance using the 3-System Index for western Alaska based on the Kuskokwim, Unalakleet, and Upper Yukon aggregate stock grouping.

For 2023, NMFS determined it was a low abundance year based on the State's 3-System Index. In accordance with the regulations at § 679.21(f), NMFS has specified a Chinook salmon PSC limit of 45,000 Chinook salmon, and a Chinook salmon bycatch performance standard of 33,318 Chinook salmon for the 2024 fishing year. NMFS publishes the approved IPAs, allocations, and reports at https://alaskafisheries.noaa.gov/sustainablefisheries/bycatch/default.htm. Bycatch of salmon is posted on the NMFS website at https://www.fisheries.noaa.gov/alaska/commercial-fishing/fisheries-catch-and-landings-reports-alaska.

For each fishing year, the Bering Sea pollock fleet is constrained by the limit of Chinook salmon PSC set in regulation (as explained above), regardless of the size of the pollock TAC and harvest. The AFA sectors are prohibited from continuing to fish if their Chinook salmon PSC limit has been exceeded. Further, if the sector exceeds its performance standard in 3 of 7 years, that sector becomes constrained by the performance standard in future years (meaning, the sector would be subject to a lower PSC limit in future years).

Regulations set limits on Chinook salmon PSC for the AI pollock fishery and non-Chinook salmon PSC for vessels using trawl gear. These are static limits set in regulations and are announced in the groundfish harvest specifications each year. Regulations also set limits on Pacific halibut PSC in the groundfish fisheries. Section 679.21(b)(1) establishes a fixed halibut PSC of 745 mt for the BSAI trawl limited access sector. The Council and NMFS apportion for seven trawl fishery categories a PSC allowance from the fixed limit of 745 mt. Halibut PSC in the pollock fisheries accrues to a specific fishery category—the pollock/Atka mackerel/other species fishery category, as specified in regulations. For 2024 and 2025, the allowance for the pollock/Atka mackerel/other species fishery category is 175 mt (see tables 18 and 19).

Ultimately, NMFS manages salmon bycatch in the pollock fishery through a variety of tools that apply at all levels of pollock TAC. The tools for both salmon and halibut bycatch include the Chinook salmon PSC limits (which are announced in these annual harvest specifications), halibut PSC limits set in regulation (which are also announced in these annual harvest specifications), IPAs to address Chinook and chum bycatch, and a comprehensive monitoring program to collect data on bycatch, including salmon and halibut bycatch. The information from this monitoring program is used to estimate how many Chinook and chum salmon are caught as bycatch from trawl vessels, where those fish came from, and whether a potential violation of law occurred.

NMFS acknowledges the western Alaska salmon crisis and the impact it is having on culture and food security throughout western Alaska. Science indicates climate change as the primary driver of poor salmon returns in western Alaska. Scientists from NMFS continue to study the impacts of climate change on salmon and halibut. For example, scientists from NMFS and the State found that recent heat wave events created conditions where energy allocation and prey quality was affected and added stress to western Alaska chum salmon at critical life stages (see Farley, Jr., et al., 2024; https://www.int-res.com/abstracts/meps/v726/p149-160). Additionally, as discussed in the response to Comment 10, the best scientific evidence indicates that the numbers of the ocean bycatch that would have returned to western Alaska rivers would be relatively small due to ocean mortality and the large number of other river systems contributing to the total Chinook or chum salmon bycatch.

NMFS and the Council are committed to continued improvements in bycatch management with a goal of minimizing bycatch at all levels of abundance for target species (i.e., pollock) and PSC. NMFS and the Council are currently engaged in a comprehensive process to evaluate existing measures and develop alternatives that may be necessary to further reduce chum salmon bycatch. More information on this process can be found at https://www.npfmc.org/fisheries-issues/bycatch/salmon-bycatch/. However, the Chinook salmon and Pacific halibut PSC limits and the conditions that affect the limits are set in regulations, and changes to those regulations are outside of the scope of the annual harvest specification process. NMFS believes that changes to bycatch management of all prohibited species, including Chinook salmon, chum salmon, and Pacific halibut, are best accomplished through the Council process to recommend FMP amendments and regulations that NMFS would implement if consistent with the Magnuson-Stevens Act, the FMP, and other applicable law.

Comment 3: Management of fisheries, including TAC setting and PSC limits, should include ecosystem based fishery management.

Response: The annual process for specifying TAC for groundfish in the BSAI is a scientifically-driven process informed by the best available information on the status of the marine ecosystems off Alaska. Each year, ESRs are prepared for the BS and AI ecosystems (as well as the Gulf of Alaska (GOA) ecosystem). The intent of the ESRs is to provide the Plan Team, SSC, AP, Council, and NMFS, as well as the public, with a broad overview of the current status of the marine ecosystems. The ESRs are drafted by scientists and staff from NOAA, other federal and state agencies, academic institutions, tribes, and non-profits, and they compile and summarize information about the status of the Alaska marine ecosystems and represent the best scientific information available. The ESRs include information on the physical environment and oceanography, climate data, biological data, marine resources, and socio-ecological dimensions to provide context for the specification of OFL, ABC, and TAC. For example, the 2024 ESR for the EBS includes: (1) a synthesis of the physical environment (e.g., temperature, sea ice, and cold pool); (2) an analysis of primary production (e.g., phytoplankton and zooplankton); (3) trends for non-target species and discards (e.g., jellyfish, forage fish, herring, and salmon); (4) integrated information on seabirds; (5) recruitment predictions; (6) emerging stressors; and (7) a sustainability index. The 2024 EBS ESR is available at https://apps-afsc.fisheries.noaa.gov/REFM/docs/2023/EBSecosys.pdf.

Information from the ESRs are integrated in stock assessments, primarily through the risk tables that are prepared for each stock. The risk table includes evaluation of four considerations: (1) assessment-related; (2) population dynamics; (3) environmental/ecosystem; and (4) fishery performance. The risk table is meant to inform the specification of ABC by accounting for additional scientific uncertainty that is not addressed in the stock assessment model used to calculate OFL and ABC based on the stock's tier and the corresponding OFL and ABC control rules in the FMP. Because TAC cannot exceed ABC, reductions in ABC based on the risk table result in additional precaution in the catch limits for groundfish of the BSAI. The risk table can highlight changes in ecosystem conditions. For example, in the 2023 EBS pollock SAFE report, the risk table assessed several environmental and ecosystem considerations that warranted an elevated level of concern, including environmental/oceanographic factors related to climate change, status in fish condition over year classes, declining trends in northern fur seal pup production on St. Paul Island, and mixed trends in the status of potential competitors like jellyfish and salmon (Bristol Bay sockeye salmon have continued to sustain high inshore runs, and sockeye salmon compete with both juvenile and adult pollock for prey). Based on the elevated ecosystem risk identified in the risk table, the SSC reduced the EBS pollock ABC by 18 percent.

Some stock assessments also include an individual ESP. The ESP was developed as a framework for organizing and evaluating ecosystem and socioeconomic information about an individual stock. The ESP informs environmental and ecosystem considerations, population dynamics, and fisheries performance in the risk table. For example, the ESP for EBS Pacific cod assesses numerous ecosystem indicators that include physical indicators, lower tropic indicators, and upper trophic indicators. The ESP for EBS Pacific cod is available at https://apps-afsc.fisheries.noaa.gov/Plan_Team/2023/EBSpcod_app2.pdf.

Stock assessment authors consider a variety of ecosystem-related factors when preparing their assessments, which are thoroughly reviewed by the Plan Team and the SSC. Stock assessment authors will include, if possible, relevant ecosystem-related factors into their modeling. Many models use variables that are potentially ecosystem-related, climate-impacted like size and condition of fish (i.e., length and weight) and recruitment, and some models integrate specific environmental factors that have been influenced by climate change, such as the extent of the cold pool and bottom temperature in the survey area.

The information from the ESRs, stock assessments, and ESPs allows the Plan Team, SSC, AP, Council, and NMFS to respond to ecosystem changes and stock changes in the BSAI and to adjust the harvest specifications as necessary. This is consistent with the FMP and the preferred harvest strategy analyzed in the Final EIS and implemented each year for the specification of TAC. The Final EIS contemplated that ABCs could be reduced based on ecosystem considerations (Chapter 11 of Final EIS). The harvest strategy is designed such that the most recent information would be used each year in setting the annual harvest specification. The process is flexible to incorporate current information on stock abundance and harvest and environmental, ecosystem, and socioeconomic factors (e.g., physical and ecosystem changes associated with climate change). Similarly, the FMP contemplates ongoing consideration of relevant factors (e.g., ecosystem considerations and climate change) through the development of SAFE reports (Section 3.2.2.2 of the FMP). The use of the most recent, best available information in the SAFE reports allows the Council and NMFS to respond to changes in stock condition and environmental, ecosystem, and socioeconomic factors in the BSAI and to adjust the harvest specifications as appropriate, which is also consistent with National Standard 2 of the Magnuson-Stevens Act to use the best scientific information available (16 U.S.C. 1851(a)(2)).

NMFS is committed to supporting science and research to continue to improve the process of effective ecosystem-based management by refining the existing tools and developing new tools for incorporating ecosystem and socioeconomic information.

As noted in response to Comment 2, PSC limits and the conditions that affect the limits are set in regulations, and changes to those regulations are outside of the scope of the annual harvest specification process.

Comment 4: The Alaska Groundfish Harvest Specifications EIS is outdated and NMFS must prepare a new or supplemental EIS on the harvest specifications. New species listings and critical habitat designations, climate change, vessel strikes and disturbance, entanglement, habitat impacts, prey competition, bycatch, and plastics constitute significant new or cumulative information requiring supplementation.

Response: Groundfish harvests are managed subject to annual limits on the retained and discarded amounts of each species and species group. The “harvest strategy” is the method used to calculate these annual limits, referred to as “harvest specifications,” and the process of establishing them is referred to as the “specifications process.” NMFS prepared the Alaska Groundfish Harvest Specifications Final Environmental Impact Statement (Final EIS) to analyze the environmental, social, and economic impacts of alternative harvest strategies used to determine the annual harvest specifications for the federally managed groundfish fisheries in the GOA and BSAI management areas.

The purpose of the harvest strategy is to: (1) provide for orderly and controlled commercial fishing for groundfish; (2) promote sustainable incomes to the fishing, fish processing, and support industries; (3) support sustainable fishing communities; and (4) provide sustainable flows of fish products to consumers. The harvest strategy balances groundfish harvest in the fishing year with ecosystem needs (e.g., non-target fish stocks, marine mammals, seabirds, and habitat). Importantly, the harvest strategy and specification process are designed to use the best available scientific information developed each year through the annual SAFE (including the ESR process) to calculate the status determination criteria, assess the status of each stock, and set the TACs.

In a ROD, NMFS selected one of the alternative harvest strategies: to set TACs that fall within the range of ABCs recommended through the harvest specifications process that includes review by the Plan Team and SSC. NMFS concluded that the preferred harvest strategy analyzed in the Final EIS and selected in the ROD provides the best balance among relevant environmental, social, and economic considerations and allows for continued management of the groundfish fisheries based on the most recent, best scientific information. While the specific numbers that the harvest strategy produces may vary from year to year, the methodology used for the preferred harvest strategy remains constant. NMFS has not changed the harvest strategy or specifications process from what was analyzed in the Final EIS.

Each year the harvest strategy uses the best scientific information available in the annual SAFE reports to derive the annual harvest specifications, which include TACs and PSC limits. Through this process, each year, the Council's Groundfish Plan Teams use updated stock assessments to calculate biomass, OFLs, and ABCs for each species and species group for specified management areas. The OFLs and ABCs are published with the harvest specifications, and provide the foundation for the Council and NMFS to develop the TACs. The OFLs and ABCs reflect fishery science, applied in light of the requirements of the FMPs. The Council bases its TAC recommendations on those of its AP, which are consistent with the SSC's OFL and ABC recommendations (i.e., the TAC recommendations cannot exceed the SSC's ABC and OFL recommendations).

The Final EIS evaluates the consequences of alternative harvest strategies on ecosystem components and on the ecosystem as a whole. The Final EIS evaluates the alternatives for their effects within the action area. The environmental consequences of each alternative were considered for target species, non-specified species, forage species, prohibited species, marine mammals, seabirds, Essential Fish Habitat, ecosystem relationships, the economy, and environmental justice. These considerations were evaluated based on the conditions as they existed at the time the Final EIS was developed, but the Final EIS also anticipated potential changes in these conditions, including climate change, could be incorporated, as appropriate, through the annual implementation of the harvest strategy. Each year since 2007 relevant changes (i.e., new information, changed circumstances, potential changes to the action) are considered with the primary purpose of evaluating the need to supplement the Final EIS.

NEPA implementing regulations at 40 CFR 1502.9(d) instruct agencies to prepare supplements to either draft or final environmental impact statements if there remains a major federal action left to occur and: (i) the agency makes substantial changes to the proposed action that are relevant to environmental concerns; or (ii) there are significant new circumstances or information relevant to environmental concerns and bearing on the proposed action or its impacts. Ultimately, an agency is required “to take a `hard look' at the new information to assess whether supplementation might be necessary.” (see Norton v. S. Utah Wilderness All., 542 U.S. 55, 72-73 (2004)).

A SIR for the Final EIS is prepared each year to take that “hard look” and document the evaluation and decision whether a supplemental EIS (SEIS) is necessary to implement the annual groundfish harvest specifications, consistent with NEPA regulations (see 40 CFR 1502.9(d)) and NOAA's Policy and Procedures for Compliance with the National Environmental Policy Act and Related Authorities, Companion Manual for NOAA Administrative Order 216-6A. The Companion Manual authorizes the use of a SIR to document a review of new information or circumstances and determine the sufficiency of the existing NEPA analysis for implementing a component or step of the action analyzed in that existing analysis.

The SIR prepared each year for the annual harvest specifications analyzes the information contained in the most recent SAFE reports and all information available to NMFS and the Council to determine whether an SEIS must be prepared to implement the annual harvest specifications. The SAFE reports represent the best scientific information available for the harvest specifications. Included in the SAFE reports are the groundfish stock assessments and any ESPs, the ESRs, and the Economic Status Report. To date, no annual SIR to the Final EIS has concluded that an SEIS is necessary.

The SIR recognizes the preferred harvest strategy analyzed in the Final EIS and selected in the ROD was built on an annual process to compile and utilize the most recent, best scientific information available on species abundance and condition, harvest and survey data, environmental and ecosystem factors, and socio-economic conditions. The Final EIS contemplates the annual process includes flexibility that allows for the implementation of annual harvest specifications that reflect new information and changing circumstances in the context of the considerations in the Final EIS. NMFS has determined that the 2024 and 2025 harvest specifications for the BSAI and GOA are consistent with the preferred alternative harvest strategy analyzed in the Harvest Specifications EIS because they were set through the harvest specifications process, are within the optimum yield established for both the BSAI and the GOA, and do not set TAC to exceed the ABC for any single species or species group.

The SIR assesses new information and circumstances. Based on the SIR, NMFS concluded that the best available, most recent information presented on species abundance and condition, environmental and ecosystem factors, and socio-economic conditions and used to set the 2024 and 2025 harvest specifications does not represent a significant change relative to the environmental impacts of the preferred harvest strategy analyzed in the Harvest Specifications EIS.

The Harvest Specifications EIS identifies reasonably foreseeable future actions, which inform the analysis in the SIR regarding new circumstances and which include catch share management, traditional fisheries management tools, ecosystem-sensitive management, and actions by other federal, state, and international agencies and private actions. This section of the SIR assesses information and circumstances regarding: (1) bycatch management of salmon, crab, and halibut; (2) habitat impacts; (3) seabirds; and (4) marine mammals, including Endangered Species Act (ESA) listed species like Steller sea lions, humpback whales, sperm whales, and fin whales, and unlisted species like northern fur seals and killer whales. In this assessment, the SIR relies on the 2023 SAFE reports, other analyses prepared to support NMFS management actions, updated catch and bycatch data, and other best available scientific information to conclude any new information and circumstances do not present a seriously different picture of the likely environmental harms of the action to occur—the annual implementation of the 2024 and 2025 groundfish harvest specifications—beyond what was considered in the Harvest Specifications EIS. More details are provided in the SIR (see ADDRESSES).

Based on the SIR prepared in conjunction with these harvest specifications, NMFS determined that the 2024 and 2025 groundfish harvest specifications do not constitute a substantial change in the proposed action analyzed in the Final EIS and will not affect the human environment in a significant manner or to a significant extent not already considered in the Harvest Specifications EIS. Accordingly, supplementation of the Final EIS is not required for NMFS to approve and implement the 2024 and 2025 groundfish harvest specifications of the BSAI and GOA.

Comment 5: NMFS should develop a programmatic EIS and initiate a NEPA analysis that includes government-to-government consultation with Alaska Native Tribes, or otherwise supplement the Alaska Groundfish Programmatic Supplemental Environmental Impact Statement.

Response: As outlined in response to Comment 4, NMFS prepared the Alaska Groundfish Harvest Specifications Final EIS to analyze alternatives to implement the FMPs' harvest strategy and specifications process, which outlines the method and process used to determine the annual harvest specifications for the federally managed groundfish fisheries in the GOA and BSAI management areas. NMFS also must specify PSC allowances in the annual harvest specifications. The Final EIS evaluates the consequences of alternative harvest strategies on ecosystem components and on the ecosystem as a whole, as well as their effects within the action area. Ultimately, from the analysis in the Final EIS, NMFS selected a preferred harvest strategy that NMFS uses each year for the specifications process. Each year, NMFS also evaluates whether supplementation of that Final EIS is required, consistent with NEPA regulations, to implement the harvest specifications. Based on the SIR prepared in conjunction with these harvest specifications, NMFS determined that supplementation of the Alaska Groundfish Harvest Specifications Final EIS was not required. NMFS therefore implements these harvest specifications consistent with the Alaska Groundfish Harvest Specifications Final EIS.

Separate from the Final EIS for the Alaska Groundfish Harvest Specifications, NMFS and the Council prepared the Alaska Groundfish Programmatic Supplemental Environmental Impact Statement (PSEIS). The PSEIS evaluated alternative policies and objectives for the management of the groundfish fisheries in the BSAI and GOA. The action analyzed in the PSEIS is different from the action analyzed in the Alaska Groundfish Harvest Specifications Final EIS, and as explained above NMFS implements the harvest specifications consistent with the Final EIS analyzing that action. In addition to the preparation of the Harvest Specifications Final EIS, since the PSEIS the Council and NMFS have prepared for FMP amendments and regulatory changes the appropriate NEPA analyses to support the implementation of those specific FMP or regulatory changes.

Finally, the Council and NMFS are now considering a new action to revise the management policies and objectives for the groundfish fisheries, as well as for all Council-managed fisheries, off Alaska. The Council requested that NMFS initiate the development of a Programmatic EIS to analyze alternatives for the revisions of policies, objectives, and goals for all Council-managed fisheries in June of 2023. At its February 2024 meeting, the Council addressed the process for the development of a new Programmatic EIS to evaluate its action alternatives for management policies and objectives for fisheries off Alaska. Based on a motion passed at the meeting, in 2024 through early 2025 the Council and NMFS will gather input from Alaska Native Tribes and stakeholders to inform the direction and structure of alternatives analyzed under a Programmatic EIS, and NMFS will begin the NEPA scoping process. There will be multiple public meetings, in addition to Council-hosted workshops, to support the development and analysis of alternatives, and NMFS will work with Alaska Native Tribes to ensure meaningful and timely government-to-government consultation consistent with Executive Order 13175 and NOAA Procedures for Government-to-Government Consultation with Federally Recognized Indian Tribal Governments.

Comment 6: NMFS must account for climate change in its decision-making.

Response: Climate change is accounted for in NMFS's decision-making on the annual implementation of the harvest specifications, consistent with the harvest strategy in the FMP and analyzed in the Final EIS. The Final EIS analyzed alternatives for an implementing framework for the BSAI and GOA harvest strategy and evaluated the potential effects of those alternatives on the human environment (see response to Comment 4). The Final EIS examined existing physical and oceanographic conditions in the BSAI and GOA, and addressed climate and ecological regime shifts, warming and loss of sea ice, and acidification (see Chapter 3.5 of the Final EIS), as well as systemic ecosystem impacts (see Chapter 11 of the Final EIS).

Moreover, the framework process for the preferred harvest strategy under the Final EIS allows for the effects of climate change to be considered in the annual process for setting the harvest specifications. As addressed in response to Comment 3, the annual ESR is part of the SAFE reports that the Council and its Plan Teams, SSC, and AP annually review prior to the review of the stock assessments and advancing recommendations to NMFS for the annual OFLs, ABCs, and TACs. The purpose of the ESRs is to provide the Council, scientific community, and the public, as well as NMFS, with annual information about ecosystem status and trends, and they include physical oceanography, biological data, and socio-ecological dimensions, primarily collected from AFSC surveys with collaboration from a range of government and non-government partners. The ESRs provide the scientific review body (the SSC) with context for the annual biological reference points (OFLs and ABCs), and for the Council's final TAC recommendations for groundfish, which are constrained by those biological reference points. Information from the ESRs are also integrated into the annual harvest recommendations through inclusion in stock assessment-specific risk tables. There are many examples of climate change considerations presented in the ESR, including: (1) physical indicators and oceanographic metrics of climate change (e.g., sea surface and bottom temperatures and sea-ice and cold pool extents); (2) impacts from oceanographic changes (e.g., changes in sea ice and cold pool extents resulting in distributional shifts (northward) in stocks); (3) climate-driven changes to metabolic demands and foraging conditions tied to declining conditions for groundfish during recent marine heatwaves; (4) impacts of anomalously warm conditions in the marine and river environments on juveniles and adults of certain salmon stocks; and (5) emerging stressors like ocean acidification and implications for species (e.g., crab).

In some instances, the Plan Teams and SSC have recommended ABC reductions based on climate change considerations. As explained in response to Comment 3, stock assessments use a stock-assessment specific risk table that is applied by evaluating the severity of four types of considerations (i.e., assessment-related, population dynamics, environmental/ecosystem, and fishery performance) that could be used to support a scientific recommendation to reduce the ABC. As one environmental/ecosystem consideration, scientists noted that multiple indicators of primary and secondary productivity show adverse signals borne out in continued declining trends in juvenile and adult fish condition. That consideration warranted an increased level concern under the risk table. These risk tables are now prepared as part of the stock assessment process for groundfish stocks and help inform the setting of ABC (which in turn informs the setting of TAC).

Finally, the FMP indicated that the ongoing consideration of factors like climate change would be addressed annually in the SAFE reports (see Sections 3.2.2.2 and 3.2.3.1.2 of the FMP), as is currently the case with the both individual stock assessments and the ESRs. As a result, the annual harvest specifications process, which implements the preferred harvest strategy under the Final EIS, allows for the consideration of the best scientific information available on climate change (16 U.S.C. 1851(a)(2)).

Comment 7: The BSAI groundfish specifications are based upon a rigorous public process that includes the best available science when setting OFLs, ABCs and TACs, including climatic, ecosystem, and socioeconomic data and analyses. This process combined with statutorily mandated limits results in a very conservative and precautionary final result.

Response: NMFS agrees with this comment. For more details on the groundfish harvest specifications process, see responses to Comments 2-4. As noted by the commenter, the process is driven by statutory and regulatory requirements. The Magnuson-Stevens Act directs that the Council's recommended annual catch limits (ACL) cannot “exceed the fishing level recommendations of its [SSC]” (16 U.S.C. 1852(h)(6)). NMFS has interpreted “fishing level recommendation” to be the ABC recommendation from the SSC (50 CFR 600.310(b)(2)(v)(D)). This ensures that the ACL does not exceed the ABC developed by the SSC. Under the FMP, the ACL is equal to the ABC, and the annual TAC specified for each stock must be lower than or equal to the ABC (see Sections 3.2.3.3.2 and 3.2.3.4 of the FMP). This is in accord with National Standard 1 and regulations that the TAC cannot exceed the ABC/annual catch limit (see 50 CFR 600.310(g)(4)), and ABC must be set equal to or less than OFL (see § 600.310(f)(3) and (4)). The SSC recommends for each species and species group an OFL and an ABC. NMFS specifies TAC after consultation with the Council, and annual determinations of TAC are based on review of both the biological condition of the specific species or species group and socioeconomic considerations (see § 679.20(a)(2)-(3)).

Comment 8: The age three plus pollock biomass is estimated to be over ten million tons. The commenter supports the 2024 EBS pollock TAC of 1.3 million metric tons, even though the OFL and ABC could support a much higher TAC.

Response: NMFS agrees. Consistent with the National Standard 1 guidelines, NMFS may implement a TAC up to the ABC (for 2024, the Bering Sea pollock final ABC is 2,313,000 mt and the final TAC is 1,300,000 mt, a reduction in forty four percent from the ABC). In the BSAI, however, the sum of all TACs well exceed the sum of all ABCs (for 2024, the sum of final ABCs is 3,476,800, and final TACs is 2,000,000 mt, a reduction in forty two percent). As a result, TACs for pollock and other species are set often lower than ABC to ensure the sum of all TACs falls within the OY range (see § 679.20(a)(1)(i)(A) and 679.20(a)(2)). While there is precaution built into the specification of each ABC (representing scientific uncertainty) and TAC (representing management uncertainty) for a species or species group, the OY range is constraining and therefore precautionary across the ecosystem in the BSAI by reducing fishery removals and therefore also reducing impacts to the ecosystem.

Comment 9: The impacts of the pollock fishery on ecosystem impacts have been thoroughly examined. The harvest is well within historical norms. There is a regular essential Fish Habitat review process associated with this fishery. Using the best available science, the estimated habitat disturbance estimates have declined and remain around 5 percent for the EBS and around 1 percent for the AI.

Response: NMFS agrees. The impacts of the pollock fishery have been examined in various documents, including in the annual SAFE report chapters for pollock and in several NEPA documents supporting FMP amendments and regulatory changes (see response to Comment 11). Each year's TAC amount for pollock is informed by a significant amount of data, modeling, and research. This includes annual surveys, updated catch information, weight and age data, updated statistical modeling, and risks that may fall outside of the stock estimation process (see response to Comment 3 explaining reduction in 2024 pollock ABC to account for elevated concern regarding environmental/ecosystem considerations). Information on habitat disturbance has been evaluated in the Essential Fish Habitat 5-Year Reviews and information can be found at https://www.fisheries.noaa.gov/alaska/habitat-conservation/essential-fish-habitat-efh-alaska. Any changes to management of the trawl fisheries to address habitat disturbance, however, are outside the scope of this final rule, which implements catch limits for the groundfish fisheries in the BSAI.

Comment 10: Unchanged EBS pollock TAC relative to 2023 should not be expected to measurably increase or decrease salmon escapement to western Alaska. Salmon catches and runs have fluctuated greatly in recent years, while pollock catch has remained stable. Under the IPAs, the estimated average annual number of bycatch Chinook salmon that would have returned to western Alaska is 7,705 and less than two percent of the coastal western Alaska run size from 2011 through 2020. The bycatch of chum salmon in the pollock fishery is estimated to be less than one percent of the coastal western Alaska run size and the majority of the catch is estimated to be from hatchery fish originating from Asia. Increase in chum salmon bycatch is more closely related to increased bottom temperature and increased Asian hatchery production than it is to pollock allocation.

Response: NMFS agrees that the best science available suggests that climate change rather than the pollock fishery is the primary driver of declines in salmon run returns to western Alaska. While salmon bycatch in the pollock fishery may be a contributing factor in the decline of salmon, NMFS expects the numbers of the ocean bycatch that would have returned to western Alaska would be relatively small due to ocean mortality and the large number of other river systems contributing to the total Chinook or chum salmon bycatch.

For Chinook salmon, total bycatch in the Bering Sea pollock fishery is reported annually, and includes bycatch of salmon from stocks across Alaska, the Pacific Northwest, and other countries like Russia. NMFS, Council, and State scientists regularly prepare adult equivalence (AEQ) analyses of Chinook salmon that estimate the number of Chinook salmon that would have returned to river systems had they not been caught as bycatch in the Bering Sea pollock fishery. For 2021, the estimate of bycaught salmon that would have returned to western Alaska is 8,610 fish, with an average of 7,705 fish from 2011 through 2020. Considering run sizes for salmon returns to western Alaska, scientists also calculate the “impact rate.” Using this impact rate, the bycatch expected to have returned to western Alaska rivers is less than 2 percent per year since 2011, as reported in the 2023 EBS pollock SAFE report. Information on the bycatch of salmon in the BSAI groundfish fisheries, including the pollock fisheries, can be found at https://www.npfmc.org/fisheries-issues/bycatch/salmon-bycatch/. For more information on NMFS's management of bycatch in the BS and AI pollock fisheries, see the response to Comment 2.

For chum salmon, total bycatch in the Bering Sea pollock fishery is reported annually and includes bycatch of salmon from stocks across Alaska, the Pacific Northwest, and Asia. NMFS, Council, and State scientists analyze genetic stock compositions of chum salmon samples collected from the PSC in the Bering Sea pollock fishery. Scientists are able to estimate the number of chum salmon bycaught in the Bering Sea pollock fishery that originate from western Alaska (in 2022, 21 percent); however, NMFS does not have an AEQ analysis for chum salmon equivalent to the analysis for Chinook salmon. At the Council's March 2023 Salmon Bycatch Committee meeting, the most recent 2022 genetic data indicates that only 21 percent of chum bycatch is of western Alaska origin, while the largest component is from Asian hatchery stocks. NMFS also notes that the increase in Asian chum hatchery fish is a potential concern for the North Pacific ecosystem and is a topic warranting further research.

Comment 11: The TAC for pollock should reflect the true environmental cost of trawling.

Response: The SAFE report chapter for EBS pollock evaluates annually the EBS pollock fishery's effects on the ecosystem, as well as ecosystem effects on the EBS pollock stock (see sections titled “Ecosystem effects on the EBS pollock stock” and “EBS pollock fishery effects on the ecosystem” at https://www.npfmc.org/wp-content/PDFdocuments/SAFE/2023/EBSpollock.pdf). The most recent full/operational assessment for AI pollock similarly includes an evaluation of the AI pollock fishery's effects on the ecosystem, as well as ecosystem effects on AI pollock and a broad overview of ecosystem considerations at https://apps-afsc.fisheries.noaa.gov/Plan_Team/2022/AIpollock.pdf. In addition, ecosystem considerations, as well as the impact on communities and incidentally caught species, are considered and updated annually in the ESRs and ESPs. The Final EIS supporting the harvest specifications also evaluated environmental and ecosystem considerations, and the environmental impacts of the pollock fishery have been analyzed in a number of subsequent NEPA documents, including the Environmental Impact Statement for Amendment 91 to the FMP and the Environmental Assessment for Amendment 110 to the FMP.

Comment 12: NMFS should reduce catch to 1 million mt to account for ecosystem impacts from harvest.

Response: The FMP and implementing regulations direct that the sum of the TACs specified for the BSAI “must be within the OY range specified” in regulation, which for the BSAI is 1.4 to 2.0 million mt (see § 679.20(a)(1)(i)(A) and (a)(2)). NMFS cannot reduce TAC in the BSAI to 1 million mt consistent with the FMP and implementing regulations. NMFS previously set, and the Council previously recommended, the OY as a range of 1.4 to 2.0 million mt. This OY is set forth in the FMP and in regulation, and is based on the sum of all TACs. NMFS has therefore determined that, in any given year, setting the TACs to fall within that range provides the greatest overall benefit to the Nation, particularly with respect to food production and recreational opportunities and taking into account the protection of marine ecosystems and relevant economic, social, or ecological factors (see § 600.310(e)(3)).

Here, NMFS concurs with the Council's recommendation that TACs fall within the upper bound (i.e., 2.0 million mt). Setting TACs to meet the upper bound of the OY range of 2.0 million mt, while also recognizing that total TACs represent a 42 percent reduction below total ABCs, balances relevant National Standard 1 considerations. Setting TACs at the higher bound of the OY will provide the greatest benefit for the Nation based on the benefits of maintaining viable groundfish fisheries and contributions to regional and local economies. That total groundfish TAC is 42 percent below total ABC recognizes the benefits that flow from that reduction, such as protections afforded to marine ecosystems, forage for ecosystem components, and other ecological factors (see § 600.310(e)(3)(iii)(A)-(B)). For 2024 and 2025, NMFS has specified TACs to sum to the upper end of the OY range, which NMFS has determined is consistent with the National Standard 1, the FMP, and the harvest strategy analyzed in the Final EIS.

Comment 13: To be in compliance with Section 7 and Section 9 of the ESA, NMFS must analyze impacts of the groundfish trawl fisheries under the ESA through Section 7 consultations and must reinitiate consultation on the groundfish trawl fisheries to consider new species listings and critical habitat designations, climate change, vessel strikes and disturbance, entanglement, habitat impacts, prey competition, bycatch, and plastics.

Response: NMFS approves and implements the harvest specifications if they are consistent with the Magnuson-Stevens Act and other applicable law, including the ESA. NMFS has determined that these final 2024 and 2025 harvest specifications for the BSAI are consistent with the ESA. NMFS has evaluated the impacts of the BSAI groundfish fishery on ESA-listed species and designated critical habitat in a number of consultations. These consultations are on the groundfish fishery managed under the BSAI FMP and are not specific to certain gear types (e.g., trawl or fixed gear). The biological opinions are publicly available at https://www.fisheries.noaa.gov/alaska/consultations/section-7-biological-opinions-issued-alaska-region#fisheries.

NMFS agrees that reinitiation of ESA Section 7 consultation is required, and indeed NMFS has already reinitiated consultation. In November 2022, NMFS reinitiated consultation on both the BSAI groundfish fishery and the GOA groundfish fishery in light of information indicating that reinitiation under 50 CFR 402.16 was required, including revised species designations (i.e., for listed humpback whales) and new critical habitat designations. In light of the extensive scope of the actions under consultation, NMFS agreed to extend the timeframes to complete the consultations, in accordance with 50 CFR 402.14(e).

When NMFS reinitiated consultation in November 2022, NMFS determined that the operation of the groundfish fisheries off Alaska (BSAI and GOA) during the anticipated reinitiation period would not violate ESA sections 7(a)(2) and 7(d). In implementing these harvest specifications, NMFS determined that the operation of the groundfish fisheries off Alaska (BSAI and GOA) under the final 2024 and 2025 harvest specifications would not violate ESA sections 7(a)(2) and 7(d). NMFS recognizes the agency's obligation to ensure the actions over a longer term are not likely to jeopardize the continued existence of listed species or result in the destruction or adverse modification of designated critical habitat as a jeopardy or adverse modification/destruction determination commensurate with the temporal scope of the action is appropriately made only in a biological opinion.

Section 7(d) of the ESA prohibits Federal agencies from making any irreversible or irretrievable commitment of resources with respect to the agency action that would have the effect of foreclosing the formulation or implementation of any reasonable and prudent alternatives at the conclusion of the consultation. This prohibition is in force until the requirements of section 7(a)(2) have been satisfied. Resource commitments may occur as long as the action agency retains sufficient discretion and flexibility to modify its action to allow formulation and implementation of appropriate reasonable and prudent alternatives. NMFS has discretion to amend its Magnuson-Stevens Act and ESA regulations and may do so at any time subject to the Administrative Procedure Act and other applicable laws. At the conclusion of ESA section 7 consultation on the BSAI groundfish fishery, NMFS will retain sufficient discretion and flexibility to evaluate and make necessary changes to fishery regulations and management plans for the formulation and implementation of appropriate reasonable and prudent alternatives, if required to do so under the ESA.

During the consultation, existing regulatory measures that offer protection to listed species, including Steller sea lion protection measures and humpback whale approach regulations, will continue to be in effect, and NMFS will continue to implement the reasonable and prudent measures and terms and conditions necessary or appropriate to minimize the amount or extent of incidental take. NMFS has and will continue to monitor take in the groundfish fisheries consistent with the terms and conditions of the biological opinions. NMFS also has authority under 50 CFR part 679 to implement annual SSL protection measures, such as the harvest limitations implemented through the annual groundfish harvest specifications, and to close directed fishing for pollock, Pacific cod, and Atka mackerel if a biological assessment indicates the stock condition for that species is at or below 20 percent of its unfished spawning biomass during a fishing year (see § 679.20(d)(4)).

In consulting on the BSAI and GOA groundfish fisheries and preparing new biological opinions and incidental take statements, NMFS will incorporate the most recent, best scientific and commercial data available, including information relating to climate change, to assess effects from the groundfish fisheries, such as vessel strikes and disturbance, entanglement, prey competition, and habitat impacts.

Comment 14: NMFS must ensure compliance with the MMPA for the BSAI groundfish trawl fisheries that incidentally take ESA-listed species and must consider those species and stocks with human-caused mortality and seriously injury at levels at or approaching potential biological removal (PBR) or for those whose PBR is unknown.

Response: NMFS approves and implements the harvest specifications if they are consistent with the Magnuson-Stevens Act and other applicable law, including the MMPA. NMFS has determined that these final 2024 and 2025 harvest specifications are consistent with the MMPA. The BSAI (and GOA) groundfish fisheries identified as a Category I or II fishery that interact with ESA-listed species have a valid MMPA section 101(a)(5)(E) permit (86 FR 24384, May 6, 2021) and include the AK Bering Sea, Aleutian Islands flatfish trawl fishery and the AK Bering Sea, Aleutian Islands pollock trawl fishery.

Pursuant to Section 101(a)(5)(E) of the MMPA, NMFS shall allow taking of ESA-listed marine mammals incidental to commercial fishing operations if NMFS makes a number of determinations regarding negligible impact, recovery plans, and where required take reductions plans, monitoring programs, and vessel registration (16 U.S.C. 1371(a)(5)(E)). In May 2021, NMFS issued permits for the two BSAI groundfish fisheries that require MMPA permits for the incidental take of ESA-listed species (86 FR 24384, May 6, 2021). NMFS determined that the issuance of those permits complied with the MMPA and implementing regulations regarding the negligible impact determination, recovery plans, take reductions plans, monitoring programs, and vessel registration (86 FR 24384). The permits expire in May 2024, and NMFS is in the process of evaluating the required determinations for the re-issuance of the Section 101(a)(5)(E) permits for the two Category II groundfish fisheries in the BSAI (i.e., the pollock trawl and flatfish trawl (Amendment 80 sector)).

NMFS regularly updates marine mammal stock assessments and reports of human-caused mortalities and serious injuries of marine mammals. The long-term goal under the MMPA is to reduce the level of mortality and serious injury of marine mammals to insignificance levels (see 16 U.S.C. 1387(b)), which is defined as 10 percent of the stocks' PBR (50 CFR 229.2). PBR is defined as the maximum number of animals, not including natural mortalities, that may be removed from a marine mammal stock while allowing that stock to reach or maintain its optimum sustainable population (50 CFR 229.2). Based on the best scientific information available, the level of mortality and serious injury (M/SI) of ESA-listed stocks that interact with the two Category II groundfish fisheries in the BSAI is currently below 10 percent of those stocks' PBR. PBR and incidental M/SI for each ESA-listed stock with M/SI in the AK Bering Sea, Aleutian Islands flatfish trawl fishery are as follows:

• Bearded seal, Beringia—PBR = 8,210, M/SI = 1.2, M/SI as percent of the stock's PBR = 0.01 percent

• Humpback whale, Western North Pacific—PBR = 0.2, M/SI = 0, M/SI as percent of stock's PBR = 0 percent

• Ringed seal, Arctic—PBR = 4,755, M/SI = 4.6, M/SI as percent of the stock's PBR = 0.097 percent, and

• Steller sea lion, Western U.S—PBR = 299, M/SI = 13, M/SI as percent of the stock's PBR = 4.3 percent.

PBR and incidental M/SI for each ESA-listed stock with M/SI in the AK Bering Sea, Aleutian Islands pollock trawl fishery are as follows:

• Bearded seal, Beringia—PBR = 8,210, M/SI = 0.6, M/SI as percent of the stock's PBR = 0.007 percent

• Humpback whale, Mexico-North Pacific—PBR is undetermined, M/SI = 0.03

• Humpback whale, Western North Pacific—PBR = 0.2, M/SI = 0.008, M/SI as percent of stock's PBR = 4 percent

• Ringed seal, Arctic—PBR = 4,755, M/SI = 0.2, M/SI as percent of the stock's PBR = 0.004 percent, and

• Steller sea lion, Western U.S—PBR = 299, M/SI = 6.8, M/SI as percent of the stock's PBR = 2.2 percent.

Further details on the proposed issuance of the Section 101(a)(5)(E) permits for the two Category II groundfish fisheries in the BSAI will be available in a proposed notice published in the Federal Register separate from the harvest specifications process.

Based on the best scientific information available, the level of M/SI of other strategic stocks that interact with the two Category II groundfish fisheries in the BSAI is below 10 percent of those stocks' PBR. PBR and incidental M/SI for each strategic stock (unlisted) with M/SI in the AK Bering Sea, Aleutian Islands flatfish trawl fishery are as follows:

• Northern fur seal, Eastern Pacific—PBR =11,403, M/SI = 2.7, M/SI as percent of the stock's PBR = 0.02 percent.

Comment 15: NMFS must reevaluate the stock structure for the Eastern North Pacific Alaska Resident Stock of killer whales.

Response: This is outside of the scope of this final rule to implement the groundfish harvest specifications for the BSAI. NMFS notes that it currently intends to initiate by January 2025 a review of available information about whether there are multiple demographically independent populations of killer whales within the currently-defined Eastern North Pacific Alaska resident killer whale stock. The Eastern North Pacific Alaska resident killer whale stock, as currently defined, includes resident killer whales in Southeast Alaska, the Gulf of Alaska, the Aleutian Islands, and the Bering Sea. This evaluation would involve experts from NMFS's Alaska, Northwest, and Southwest Fisheries Science Centers. Should the agency find that there are demographically independent populations of killer whales and subsequently decide to describe new stocks of killer whales in Alaska, that would be accomplished through the development of new draft stock assessment reports. These would be made available for public review and comment separate from the harvest specifications process.

Comment 16: NMFS must ensure there are mitigation measures in place for killer whales and other non-ESA listed marine mammals that interact with the fisheries.

Response: This is outside of the scope of this final rule to implement the groundfish harvest specifications for the BSAI. As noted in response to Comment 14, NMFS has determined that these final 2024 and 2025 harvest specifications for the BSAI are consistent with the requirements of the MMPA. NMFS is concerned about the higher than normal number of killer whale incidental catches in the BSAI trawl fisheries in 2023. NMFS continues to investigate and prepare updated analyses on killer whales stocks, including through NMFS's marine mammal stock assessment reports and reports of human-caused mortalities and serious injuries of marine mammals. NMFS also recently released a new technical memorandum, Killer Whale Entanglements in Alaska: Summary Report 1991-2022. More information is available at the following websites: https://www.fisheries.noaa.gov/feature-story/cause-death-determined-11-killer-whales-incidentally-caught-fishing-gear-alaska-2023 and https://www.fisheries.noaa.gov/resource/document/killer-whale-entanglements-alaska.

Comment 17: Under the Magnuson-Stevens Act, NMFS can only approve a plan, a plan amendment, harvest specifications, or allow other fishing activity to occur or continue pursuant to permits if such actions do not violate other applicable laws, like NEPA, ESA, and MMPA.

Response: As addressed in the Classification section (below) and the response to Comments, NMFS has determined that implementing the 2024 and 2025 groundfish harvest specifications for the BSAI is consistent with the Magnuson-Stevens Act, the FMP, and other applicable laws. As explained in responses to Comments 4-5, 13, and 14, NMFS has determined that this final rule is consistent with NEPA, ESA, and MMPA. In addition, this final rule specifies the OFL, ABC, and TAC for target species in the BSAI. Any FMP amendments, regulations, and permitting alluded to in the comment are outside the scope of this final rule implementing the harvest specifications for the BSAI.

Changes to the Final Rule

NMFS undertook a thorough review of the relevant comments received during the public comment period. However, for reasons described in the preceding section, no changes to the final rule were made in response to any of the comments received.

After incorporating new or updated fishery and survey data, considering Council recommendations and the 2023 SAFE reports, and accounting for State harvest levels, NMFS has made several updates from the proposed rule. TACs were adjusted based on the final ABCs and, in general, TACs for species with higher economical value increasing and TACs with lower economic value decreasing. The increase in Pacific cod TAC in the BS is an example of this. A detailed description of many of these changes can be found above (see “Changes from the Proposed 2024 and 2025 Harvest Specifications for the BSAI”) The TAC changes are also summarized in table 1a. The changes to TACs between the proposed and final harvest specifications are based on the most recent scientific, biological, ecosystem, and socioeconomic information and are consistent with the FMP, regulatory obligations (including the required OY range of 1.4 million to 2.0 million mt), and the harvest strategy.

Classification

NMFS is issuing this final rule pursuant to section 305(d) of the Magnuson-Stevens Act. Through previous actions, the FMP and regulations are designed to authorize NMFS to take this action (see 50 CFR part 679). The NMFS Assistant Administrator has determined that the final harvest specifications are consistent with the FMP, the Magnuson-Stevens Act, and other applicable laws.

This action is authorized under 50 CFR 679.20 and is exempt from review under Executive Order 12866 because it only implements annual catch limits in the BSAI.

NMFS prepared an EIS for the Alaska groundfish harvest specifications and alternative harvest strategies (see ADDRESSES) and made it available to the public on January 12, 2007 (72 FR 1512). On February 13, 2007, NMFS issued the Record of Decision (ROD) for the Final EIS identifying the selected alternative (Alternative 2). NMFS prepared a Supplementary Information Report (SIR) for this action to provide a subsequent assessment of the action and to address the need to prepare a Supplemental EIS (SEIS) (40 CFR 1501.11(b) and 1502.9(d)(1)). Copies of the Final EIS, ROD, and annual SIRs for this action are available from NMFS (see ADDRESSES). The Final EIS analyzes the environmental, social, and economic consequences of the groundfish harvest specifications and alternative harvest strategies on resources in the action area. Based on the analysis in the Final EIS, NMFS concluded that the preferred alternative (Alternative 2) provides the best balance among relevant environmental, social, and economic considerations and allows for continued management of the groundfish fisheries based on the most recent, best scientific information. The preferred alternative is a harvest strategy in which TACs are set at a level within the range of ABCs recommended through the Council harvest specifications process by the Council's SSC. The sum of the TACs also must achieve the OY specified in the FMP and regulations. While the specific numbers that the harvest strategy produces may vary from year to year, the methodology used for the preferred harvest strategy remains constant.

The latest annual SIR evaluated the need to prepare an SEIS for the 2024 and 2025 groundfish harvest specifications. A SEIS must be prepared if a major federal action remains to occur and: (1) the agency makes substantial changes to the proposed action that are relevant to environmental concerns; or (2) significant new circumstances or information exist relevant to environmental concerns and bearing on the proposed action or its impacts (see § 1502.9(d)(1)). After reviewing the most recent, best available information, including the information contained in the SIR and SAFE report, the Regional Administrator has determined that: (1) the 2024 and 2025 harvest specifications, which were set according to the preferred harvest strategy, do not constitute a substantial change in the action; and (2) the information presented does not indicate that there are significant new circumstances or information relevant to environmental concerns and bearing on the proposed action or its impacts. Any new information and circumstances do not present a seriously different picture of the likely environmental harms of the action to occur—the implementation of these harvest specifications—beyond what was considered in the Final EIS, and the 2024 and 2025 harvest specifications will result in environmental, social, and economic impacts within the scope of those analyzed and disclosed in the Final EIS. Therefore, a SEIS is not necessary to implement the 2024 and 2025 harvest specifications.

A final regulatory flexibility analysis (FRFA) was prepared. Section 604 of the Regulatory Flexibility Act (RFA) (5 U.S.C. 604) requires that, when an agency promulgates a final rule under 5 U.S.C. 553, after being required by that section or any other law, to publish a general notice of proposed rulemaking, the agency shall prepare a FRFA. The following constitutes the FRFA prepared for these final 2024 and 2025 harvest specifications.

Section 604 of the RFA describes the required contents of a FRFA: (1) a statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are included at the beginning of the preamble to this final rule and are not repeated here.

NMFS published the proposed rule on December 5, 2023 (88 FR 84278). NMFS prepared an Initial Regulatory Flexibility Analysis (IRFA) to accompany the proposed action, and included the IRFA in the proposed rule. The comment period closed on January 4, 2024. No comments were received on the IRFA or on the economic impacts of the rule more generally. The Chief Counsel for Advocacy of the Small Business Administration did not file any comments on the proposed rule.

The entities directly regulated by this action are those that harvest groundfish in the exclusive economic zone of the BSAI and in parallel fisheries within State waters. These include entities operating CVs and CPs within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide.

Using the most recent data available (2022), the estimated number of directly regulated small entities includes approximately 130 CVs, 2 CPs, 6 CDQ groups, and three motherships. Some of these vessels are members of AFA inshore pollock cooperatives, Gulf of Alaska rockfish cooperatives, or BSAI Crab Rationalization Program cooperatives, and, since under the RFA, the aggregate gross receipts of all participating members of the cooperative must meet the “under $11 million” threshold, the cooperatives are considered to be large entities within the meaning of the RFA. Thus, the estimate of 130 CVs may be an overstatement of the number of small entities. Average gross revenues for hook-and-line CVs, pot gear CVs, and trawl gear CVs are estimated to be $800,000, $1.5 million, and $2.7 million, respectively. Average gross revenues for CP entities are confidential. There are three AFA cooperative affiliated motherships, which appear to fall under the 750-worker threshold and are therefore small entities. The average gross revenues for the AFA motherships are confidential.

This final rule contains no information collection requirements under the Paperwork Reduction Act of 1995.

This action implements the final 2024 and 2025 harvest specifications, apportionments, and prohibited species catch limits for the groundfish fishery of the BSAI. This action is necessary to establish harvest limits for groundfish during the 2024 and 2025 fishing years and is taken in accordance with the FMP prepared by the Council pursuant to the Magnuson-Stevens Act. The establishment of the final harvest specifications is governed by the Council and NMFS's harvest strategy for the catch of groundfish in the BSAI. The harvest strategy was previously selected from among five alternatives. Under this preferred alternative harvest strategy, TACs are set within the range of ABCs recommended through the Council harvest specifications process by the SSC, and while the specific TAC numbers that the harvest strategy produces may vary from year to year, the methodology used for the preferred harvest strategy remains constant. The sum of the TACs must achieve the OY specified in the FMP and regulations. This final action implements the preferred alternative harvest strategy previously chosen by the Council and NMFS to set TACs that fall within the range of ABCs recommended through the Council harvest specifications process and as recommended by the Council. This is the method for determining TACs that has been used in the past.

The final 2024 and 2025 TACs associated with the preferred harvest strategy are those recommended by the Council in December 2023. OFLs and ABCs for each species and species group were based on recommendations prepared by the Council's Plan Team, and reviewed by the Council's SSC. The Council's TAC recommendations are consistent with the SSC's OFL and ABC recommendations, and the sum of all TACs remains within the OY for the BSAI consistent with § 679.20(a)(1)(i)(A). Because setting all TACs equal to ABCs would cause the sum of TACs to exceed an OY of 2 million mt, TACs for some species and species groups are lower than the ABCs recommended by the Plan Team and the SSC.

The final 2024 and 2025 OFLs and ABCs are based on the best available biological information, including projected biomass trends, information on assumed distribution of stock biomass, and revised technical methods to calculate stock biomass. The final 2024 and 2025 TACs are based on the best available biological and socioeconomic information. The final 2024 and 2025 OFLs, ABCs, and TACs are consistent with the biological condition of groundfish stocks as described in the 2023 SAFE report, which is the most recent, completed SAFE report, as well as the ecosystem and socioeconomic information presented in the 2023 SAFE report (including the BS ESR and AI ESR). Accounting for the most recent information to set the final OFLs, ABCs, and TACs is consistent with the objectives for this action, as well as National Standard 2 of the Magnuson-Stevens Act (16 U.S.C. 1851(a)(2)) that actions shall be based on the best scientific information available.

Under this action, the ABCs reflect harvest amounts that are less than the specified overfishing levels. The TACs are within the range of ABCs recommended by the SSC and do not exceed the biological limits recommended by the SSC (the ABCs and OFLs). For some species and species groups in the BSAI, the Council recommended, and NMFS sets, TACs equal to ABCs, which is intended to maximize harvest opportunities in the BSAI. However, NMFS cannot set TACs for all species in the BSAI equal to their ABCs due to the constraining OY limit of 2 million mt. For this reason, some final TACs are less than the final ABCs. These specific reductions were reviewed and recommended by the Council's AP, and then reviewed and adopted by the Council as the Council's recommended final 2024 and 2025 TACs.

Based on the best available scientific data, and in consideration of the Council's objectives for this action, there are no significant alternatives that have the potential to accomplish the stated objectives of the Magnuson-Stevens Act and any other applicable statutes and that have the potential to minimize any significant adverse economic impact of the final rule on small entities. This action is economically beneficial to entities operating in the BSAI, including small entities. The action specifies TACs for commercially-valuable species in the BSAI and allows for the continued prosecution of the fishery, thereby creating the opportunity for fishery revenue. After public process, during which the Council and NMFS solicited input from stakeholders, the Council concluded and NMFS determines that these final harvest specifications would best accomplish the stated objectives articulated in the preamble for this final rule and in applicable statutes, and would minimize to the extent practicable adverse economic impacts on the universe of directly regulated small entities.

Pursuant to 5 U.S.C. 553(d)(3), the Assistant Administrator for Fisheries, NOAA, finds good cause to waive the 30-day delay in the date of effectiveness for this rule because delaying this rule is contrary to the public interest. The Plan Team review of the 2023 SAFE report occurred in November 2023, and based on the 2023 SAFE report the Council considered and recommended the final harvest specifications in December 2023. Accordingly, NMFS's review of the final 2024 and 2025 harvest specifications could not begin until after the December 2023 Council meeting, and after the public had time to comment on the proposed action.

For all fisheries not currently closed because the TACs established under the final 2023 and 2024 harvest specifications (88 FR 14926, March 10, 2023) were not reached, it is possible that they would be closed prior to the expiration of a 30-day delayed effectiveness period because their TACs could be reached within that period. If implemented immediately, this rule would allow these fisheries to continue fishing because some of the new TACs implemented by this rule are higher than the TACs under which they are currently fishing. Because this rule relieves a restriction for fisheries subject to lower TACs under the final 2023 and 2024 harvest specifications (88 FR 14926, March 10, 2023), it is not subject to the 30-day delayed effectiveness provision of the APA pursuant to 5 U.S.C. 553(d)(1). For those fisheries not currently closed because the TACs established under the final 2023 and 2024 harvest specifications have not yet been reached, it is possible that their TACs could be reached within that 30-day period and NMFS would have to close those fisheries prior to the expiration of a 30-day delayed effectiveness period. If those fisheries closed, they would experience a restriction in fishing. If this rule is implemented immediately, this rule would relieve the potential for those fisheries to be restricted and would allow these fisheries to continue fishing because some of the new TACs implemented by this rule are higher than the TACs under which they are currently fishing.

In addition, immediate effectiveness of this action is required to provide consistent management and conservation of fishery resources based on the best available scientific information. This is particularly pertinent for those species that have lower 2024 ABCs and TACs than those established in the 2023 and 2024 harvest specifications (88 FR 14926, March 10, 2023). If implemented immediately, this rule would ensure that NMFS can properly manage those fisheries for which this rule sets lower 2024 ABCs and TACs, which are based on the most recent biological information on the condition of stocks, rather than managing species under the higher TACs set in the previous year's harvest specifications.

Certain fisheries, such as those for pollock, are intensive, fast-paced fisheries. Other fisheries, such as those for sablefish, flatfish, rockfish, Atka mackerel, skates, sharks, and octopuses, are critical as directed fisheries and as incidental catch in other fisheries. U.S. fishing vessels have demonstrated the capacity to catch the TAC allocations in many of these fisheries. If the date of effectiveness of this rule were to be delayed 30 days and if a TAC were to be reached during those 30 days, NMFS would be required to close directed fishing or prohibit retention for the applicable species. Any delay in allocating the final TACs in these fisheries would cause confusion to the industry and potential economic harm through unnecessary discards, thus undermining the intent of this rule. Waiving the 30-day delay allows NMFS to prevent economic loss to fishermen that could otherwise occur should the 2024 TACs (set under the 2023 and 2024 harvest specifications) be reached. Determining which fisheries may close is nearly impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries, and causing them to close at an accelerated pace.

In fisheries subject to declining sideboard limits, a failure to implement the updated sideboard limits before initial season's end could deny the intended economic protection to the non-sideboard limited sectors. Conversely, in fisheries with increasing sideboard limits, economic benefit could be denied to the sideboard-limited sectors.

If these final harvest specifications are not effective by March 15, 2024, which is the start of the 2024 Pacific halibut season as specified by the IPHC, the fixed gear sablefish fishery will not begin concurrently with the Pacific halibut IFQ season. Delayed effectiveness of this action would result in confusion for sablefish harvesters and economic harm from the unnecessary discard of sablefish that are caught along with Pacific halibut, as both fixed gear sablefish and Pacific halibut are managed under the same IFQ program. Immediate effectiveness of these final 2024 and 2025 harvest specifications will allow the sablefish IFQ fishery to begin concurrently with the Pacific halibut IFQ season.

Finally, immediate effectiveness also would provide the fishing industry the earliest possible opportunity to plan and conduct its fishing operations with respect to new information about TAC limits. Therefore, NMFS finds good cause to waive the 30-day delay in the date of effectiveness for this rule under 5 U.S.C. 553(d)(3).

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The tables contained in this final rule are provided online and serve as the plain language guide to assist small entities in complying with this final rule as required by the Small Business Regulatory Enforcement Fairness Act of 1996. This final rule's primary purpose is to announce the final 2024 and 2025 harvest specifications and prohibited species bycatch allowances for the groundfish fisheries of the BSAI. This action is necessary to establish harvest limits and associated management measures for groundfish during the 2024 and 2025 fishing years and is taken in accordance with the FMP prepared by the Council pursuant to the Magnuson-Stevens Act. This action directly affects all fishermen who participate in the BSAI fisheries. The specific amounts of OFL, ABC, TAC, and PSC amounts are provided in tables in this final rule to assist the reader. This final rule also contains plain language summaries of the underlying relevant regulations supporting the harvest specifications and the harvest of groundfish in the BSAI that the reader may find helpful.

Information to assist small entities in complying with this final rule is provided online. The OFL, ABC, TAC, and PSC tables are individually available online at https://www.fisheries.noaa.gov/alaska/sustainable-fisheries/alaska-groundfish-harvest-specifications. Explanatory information on the relevant regulations supporting the harvest specifications is found in footnotes to the tables. Harvest specification changes are also available from the same online source, which includes applicable Federal Register notices, information bulletins, and other supporting materials. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: March 5, 2024.
Samuel D. Rauch III,
Deputy Assistant Administrator for Regulatory Programs, National Marine Fisheries Service.

[FR Doc. 2024-05093 Filed 3-8-24; 8:45 am]

BILLING CODE 3510-22-P